OFFICE OF PERSONNEL MANAGEMENT

Excepted Service; Consolidated Listing of Schedules A, B, and C Exceptions

AGENCY: Office of Personnel Management.

ACTION: Notice.

SUMMARY: This provides the consolidated notice of all agency specific excepted authorities, approved by the Office of Personnel Management (OPM), under Schedule A, B, or C, as of June 30, 2010, as required by Civil Service Rule VI, Exceptions from the Competitive Service.

FOR FURTHER INFORMATION CONTACT: Roland Edwards, Manager, Senior Executive Resource Services, Employee Services, 202-606-2246.

SUPPLEMENTARY INFORMATION: Civil Service Rule VI (5 CFR 6.1) requires the U.S. Office of Personnel Management (OPM) to publish notice of exceptions granted under Schedule A, B, or C. 5 CFR 213.103(a) requires all Schedule A, B, or C appointing authority available for use by all agencies to be published as regulations in the Federal Register and the Code of Federal Regulations. Excepted appointing authorities established solely for use by one specific agency do not meet the standard of general applicability prescribed by the Federal Register Act for regulations published in either the Federal Register or the Code of Federal Regulations (CFR). Therefore, 5 CFR 213.103(b) requires monthly publication, in the Notices section of the Federal Register, any Schedule A, B, or C appointing authority applicable to a single agency. 5 CFR 213.103(c) requires a consolidated listing of all Schedule A, B, and C authorities, current as of June 30 of each year, be published annually in the Notices section of the Federal Register at http://www.gpoaccess.gov/fr/. That notice follows. Government-wide authorities codified in the CFR are not printed in this notice.

When making appointments under an agency-specific authority, agencies should first list the appropriate Schedule A, B, or C, followed by the applicable number, for example: Schedule A, 213.310(x)(x). Agencies are reminded that all excepted authorities are subject to the provisions of 5 CFR, part 302 unless specifically exempted by OPM at the time of approval.

OPM maintains continuing information on the status of all Schedule A, B, and C appointing authorities. Interested parties needing information about specific authorities during the year may obtain information by writing to the Office of Personnel Management, Senior Executive Resource Services, Executive Resources and Employee Development, 1900 E Street, NW., Room 7412, Washington, DC 20415, or by calling (202) 606-2246.

The following agency specific exceptions are current as of June 30, 2010.

Schedule A

Schedule A

03. Executive Office of the President (Sch. A, 213.3103)

(a) Office of Administration—

(1) Not to exceed 75 positions to provide administrative services and support to the White House Office.

(b) Office of Management and Budget—

(1) Not to exceed 20 positions at grades GS-5/15.

(c) Council on Environmental Quality—

(1) Professional and technical positions in grades GS-9 through 15 on the staff of the Council.

(d)-(f) (Reserved)

(g) National Security Council—

(1) All positions on the staff of the Council.

(h) Office of Science and Technology Policy—

(1) Thirty positions of Senior Policy Analyst, GS-15; Policy Analyst, GS-11/14; and Policy Research Assistant, GS-9, for employment of anyone not to exceed 5 years on projects of a high priority nature.

(i) Office of National Drug Control Policy—

(1) Not to exceed 18 positions, GS-15 and below, of senior policy analysts and other personnel with expertise in drug-related issues and/or technical knowledge to aid in anti-drug abuse efforts.

04. Department of State (Sch. A, 213.3104)

(a) Office of the Secretary—

(1) All positions, GS-15 and below, on the staff of the Family Liaison Office, Director General of the Foreign Service and the Director of Personnel, Office of the Under Secretary for Management.

(2) (Reserved)

(b)-(f) (Reserved)

(g) Bureau of Population, Refugees, and Migration—

(1) Not to exceed 10 positions at grades GS-5 through 11 on the staff of the Bureau.

(h) Bureau of Administration—

(1) (Reserved)

(2) One position of the Director, Art in Embassies Program, GM-1001-15.

(3) (Reserved)

05. Department of the Treasury (Sch. A, 213.3105)

(a) Office of the Secretary—

(1) Not to exceed 20 positions at the equivalent of GS-13 through GS-17 to supplement permanent staff in the study of complex problems relating to international financial, economic, trade, and energy policies and programs of the Government, when filled by individuals with special qualifications for the particular study being undertaken.

(2) Not to exceed 20 positions, which will supplement permanent staff involved in the study and analysis of complex problems in the area of domestic economic and financial policy.

(3) Not to exceed 100 positions in the Office of the Under Secretary for Terrorism and Financial Intelligence.

(b-d) (Reserved)

(e) Internal Revenue Service—

(1) Twenty positions of investigator for special assignments.

(f) (Reserved)

(g) (Reserved, moved to DOJ)

(h) Office of Financial Responsibility—

(1) Positions needed to perform investment, risk, financial, compliance, and asset management requiring unique qualifications currently not established by OPM. Positions will be in the Office of Financial Stability at the General Schedule (GS) grade levels 12-15 or Senior Level (SL), for initial employment not to exceed 4 years. No new appointments may be made under this authority after December 31, 2012.

06. Department of Defense (Sch. A, 213.3106)

(a) Office of the Secretary—

(1)-(5) (Reserved)

(6) One Executive Secretary, US-USSR Standing Consultative Commission and Staff Analyst (SALT), Office of the Assistant Secretary of Defense (International Security Affairs).

(b) Entire Department (including the Office of the Secretary of Defense and the Departments of the Army, Navy, and Air Force)—

(1) Dependent School Systems overseas—Professional positions in Military Dependent School systems overseas.

(2) Positions in attaché 1 systems overseas, including all professional and scientific positions in the Naval Research Branch Office in London.

(3) Positions of clerk-translator, translator, and interpreter overseas;

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the DOD when filled by dependents of military or civilian employees of the U.S. Government residing in the area. Employment under this authority may not extend longer than 2 months following the transfer from the area or separation of a dependent's sponsor: Provided that

(i) A school employee may be permitted to complete the school year; and

(ii) An employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) (Reserved)

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after October 1, 2012.

(11) Not to exceed 3000 positions that require unique cyber security skills and knowledge to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure inter-dependency analysis. This authority may be used to make permanent, time-limited and temporary appointments in the following occupational series: Security (GS-0080), Intelligence Analysts (GS-0132), Computer Engineers (GS-0854), Electronic Engineers (GS-0855), Computer Scientists (GS-1550), Operations Research (GS-1515), Criminal Investigators (GS-1811), Telecommunications (GS-0391), and IT Specialists (GS-2210). Within the scope of this authority, the U.S. Cyber Command is also authorized to hire miscellaneous administrative and program (GS-0301) series when those positions require unique qualifications not currently established by OPM. All positions will be at the General Schedule (GS) grade levels 09-15. No new appointments may be made under this authority after December 31, 2012.

(c) (Reserved)

(d) General—

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences—

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University—

(1) Not to exceed 16 positions of senior policy analyst, GS-15, at the Strategic Concepts Development Center. Initial appointments to these positions may not exceed 6 years, but may be extended thereafter in 1-, 2-, or 3-year increments, indefinitely.

(g) Defense Communications Agency—

(1) Not to exceed 10 positions at grades GS-10/15 to staff and support the Crisis Management Center at the White House.

(h) Defense Acquisition University—

(1) The Provost and professors.

(i) George C. Marshall European Center for Security Studies, Garmisch, Germany—

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii—

(1) The Director, Deputy Director, Dean of Academics, Director of College, deputy department chairs, and senior positions of professor, associate professor, and research fellow within the Asia Pacific Center. Appointments may be made not to exceed 3 years and may be extended for periods not to exceed 3 years.

(k) Business Transformation Agency—

(1) Fifty temporary or time-limited (not to exceed four years) positions, at grades GS-11 through GS-15. The authority will be used to appoint persons in the following series: Management and Program Analysis, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

(l) Special Inspector General for Afghanistan—

(1) Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed 3 years and may, with prior approval of OPM, be extended for an additional period of 2 years. No new appointments may be made under this authority after January 31, 2011.

07. Department of the Army (Sch. A, 213.3107)

(a)-(c) (Reserved)

(d) U.S. Military Academy, West Point, New York—

(1) Civilian professors, instructors, teachers (except teachers at the Children's School), Cadet Social Activities Coordinator, Chapel Organist and Choir-Master, Director of Intercollegiate Athletics, Associate Director of Intercollegiate Athletics, Coaches, Facility Manager, Building Manager, three Physical Therapists (Athletic Trainers), Associate Director of Admissions for Plans and Programs, Deputy Director of Alumni Affairs; and Librarian when filled by an officer of the Regular Army retired from active service, and the Military Secretary to the Superintendent when filled by a U.S. Military Academy graduate retired as a regular commissioned officer for disability.

(e)-(f) (Reserved)

(g) Defense Language Institute—

(1) All positions (professors, instructors, lecturers) which require proficiency in a foreign language or knowledge of foreign language teaching methods.

(h) Army War College, Carlisle Barracks, PA—

(1) Positions of professor, instructor, or lecturer associated with courses of instruction of at least 10 months duration for employment not to exceed 5 years, which may be renewed in 1, 2, 3, 4 or 5-year increments indefinitely thereafter.

(i) (Reserved)

(j) U.S. Military Academy Preparatory School, Fort Monmouth, New Jersey—

(1) Positions of Academic Director, Department Head, and Instructor.

(k) U.S. Army Command and General Staff College, Fort Leavenworth, Kansas—

(1) Positions of professor, associate professor, assistant professor, and instructor associated with courses of instruction of at least 10 months duration, for employment not to exceed up to 5 years, which may be renewed in 1, 2, 3, 4 or 5-year increments indefinitely thereafter.

08. Department of the Navy (Sch. A, 213.3108)

(a) General—

(1)-(14) (Reserved)

(15) Marine positions assigned to a coastal or seagoing vessel operated by a naval activity for research or training purposes.

(16) All positions necessary for the administration and maintenance of the official residence of the Vice President.

(b) Naval Academy, Naval Postgraduate School, and Naval War College—

(1) Professors, Instructors, and Teachers; the Director of Academic Planning, Naval Postgraduate School; and the Librarian, Organist-Choirmaster, Registrar, the Dean of Admissions, and Social Counselors at the Naval Academy.

(c) Chief of Naval Operations—

(1) One position at grade GS-12 or above that will provide technical, managerial, or administrative support on highly classified functions to the Deputy Chief of Naval Operations (Plans, Policy, and Operations).

(d) Military Sealift Command

(1) All positions on vessels operated by the Military Sealift Command.

(e)-(f) (Reserved)

(g) Office of Naval Research—

(1) Scientific and technical positions, GS-13/15, in the Office of Naval Research International Field Office which covers satellite offices within the Far East, Africa, Europe, Latin America, and the South Pacific. Positions are to be filled by personnel having specialized experience in scientific and/or technical disciplines of current interest to the Department of the Navy.

09. Department of the Air Force (Sch. A, 213.3109)

(a) Office of the Secretary—

(1) One Special Assistant in the Office of the Secretary of the Air Force. This position has advisory rather than operating duties except as operating or administrative responsibilities may be exercised in connection with the pilot studies.

(b) General—

(1) Professional, technical, managerial and administrative positions supporting space activities, when approved by the Secretary of the Air Force.

(2) One hundred eighty positions, serviced by Hill Air Force Base, Utah, engaged in interdepartmental activities in support of national defense projects involving scientific and technical evaluations.

(c) Norton and McClellan Air Force Bases, California—

(1) Not to exceed 20 professional positions, GS-11 through GS-15, in Detachments 6 and 51, SM-ALC, Norton and McClellan Air Force Bases, California, which will provide logistic support management to specialized research and development projects.

(d) U.S. Air Force Academy, Colorado—

(1) (Reserved)

(2) Positions of Professor, Associate Professor, Assistant Professor, and Instructor, in the Dean of Faculty, Commandant of Cadets, Director of Athletics, and Preparatory School of the United States Air Force Academy.

(e) (Reserved)

(f) Air Force Office of Special Investigations—

(1) Positions of Criminal Investigators/Intelligence Research Specialists, GS-5 through GS-15, in the Air Force Office of Special Investigations.

(g) Wright-Patterson Air Force Base, Ohio—

(1) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama—

(1) Positions of Professor, Instructor, or Lecturer.

(i) Air Force Institute of Technology, Wright-Patterson Air Force Base, Ohio—

(1) Civilian deans and professors.

(j) Air Force Logistics Command—

(1) One Supervisory Logistics Management Specialist, GM-346-14, in Detachment 2, 2762 Logistics Management Squadron (Special), Greenville, Texas.

(k) Wright-Patterson AFB, Ohio—

(1) One position of Supervisory Logistics Management Specialist, GS-346-15, in the 2762nd Logistics Squadron (Special), at Wright-Patterson Air Force Base, Ohio.

(l) Air National Guard Readiness Center—

(1) One position of Commander, Air National Guard Readiness Center, Andrews Air Force Base, Maryland.

10. Department of Justice (Sch. A, 213.3110)

(a) General—

(1) Deputy U.S. Marshals employed on an hourly basis for intermittent service.

(2) Positions at GS-15 and below on the staff of an office of a special counsel.

(3)-(5) (Reserved)

(6) Positions of Program Manager and Assistant Program Manager supporting the International Criminal Investigative Training Assistance Program in foreign countries. Initial appointments under this authority may not exceed 2 years, but may be extended in 1-year increments for the duration of the in-country program.

(b) (Reserved, moved to DHS)

(c) Drug Enforcement Administration—

(1) (Reserved)

(2) Four hundred positions of Intelligence Research Agent and/or Intelligence Operation Specialist in the GS-132 series, grades GS-9 through GS-15.

(3) Not to exceed 200 positions of Criminal Investigator (Special Agent). New appointments may be made under this authority only at grades GS-7/11.

(d) National Drug Intelligence Center—All positions.

(e) Bureau of Alcohol, Tobacco, and Firearms—

(1) One hundred positions of criminal investigator for special assignments.

(2) One non-permanent Senior Level (SL) Criminal Investigator to serve as a senior advisor to the Assistant Director (Firearms, Explosives, and Arson).

11. Department of Homeland Security (Sch. A, 213.3111)

(a) (Revoked 11/19/2009)

(b) Law Enforcement Policy—

(1) Ten positions for oversight policy and direction of sensitive law enforcement activities.

(c) Homeland Security Labor Relations Board/Homeland Security Mandatory Removal Board—

(1) Up to 15 Senior Level and General Schedule (or equivalent) positions.

(d) General—

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. No new appointments may be made under this authority after December 31, 2012.

(e) Papago Indian Agency—Not to exceed 25 positions of Customs Patrol Officers in the Papago Indian Agency in the State of Arizona when filled by the appointment of persons of one-fourth or more Indian blood. (Formerly 213.3105(b)(9))

12. Department of the Interior (Sch. A, 213.3112)

(a) General—

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved)

(c) Indian Arts and Crafts Board—

(1) The Executive Director.

(d) (Reserved)

(e) Office of the Assistant Secretary, Territorial and International Affairs—

(1) (Reserved)

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved)

(4) Special Assistants to the Governor of American Samoa who perform specialized administrative, professional, technical, and scientific duties as members of his or her immediate staff.

(f) National Park Service—

(1) (Reserved)

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation—

(1) Appraisers and examiners employed on a temporary, intermittent, or part-time basis on special valuation or prospective-entrymen-review projects where knowledge of local values or conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs—

(1) Positions of Territorial Management Interns, GS-5, when filled by persons selected by the Government of the Trust Territory of the Pacific Islands. No appointment may extend beyond 1 year.

13. Department of Agriculture (Sch. A, 213.3113)

(a) General—

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved)

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

(6)-(7) (Reserved)

(b)-(c) (Reserved)

(d) Farm Service Agency—

(1) (Reserved)

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development—

(1) (Reserved)

(2) County committeemen to consider, recommend, and advise with respect to the Rural Development program.

(3)-(5) (Reserved)

(6) Professional and clerical positions in the Trust Territory of the Pacific Islands when occupied by indigenous residents of the Territory to provide financial assistance pursuant to current authorizing statutes.

(f) Agricultural Marketing Service—

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators.

(4) All positions on the staffs of the Milk Market Administrators.

(g)-(k) (Reserved)

(l) Food Safety and Inspection Service—

(1)-(2) (Reserved)

(3) Positions of Meat and Poultry Inspectors (Veterinarians at GS-11 and below and non-Veterinarians at appropriate grades below GS-11) for employment on a temporary, intermittent, or seasonal basis, not to exceed 1,280 hours a year.

(m) Grain Inspection, Packers and Stockyards Administration—

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation—

(1) Executive Director.

14. Department of Commerce (Sch. A, 213.3114)

(a) General—

(1)-(2) (Reserved)

(3) Not to exceed 50 scientific and technical positions whose duties are performed primarily in the Antarctic. Incumbents of these positions may be stationed in the continental United States for periods of orientation, training, analysis of data, and report writing.

(b)-(c) (Reserved)

(d) Bureau of the Census—

(1) Managers, supervisors, technicians, clerks, interviewers, and enumerators in the field service, for time-limited employment to conduct a census.

(2) Current Program Interviewers employed in the field service.

(e)-(h) (Reserved)

(i) Office of the Under Secretary for International Trade—

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved)

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period not to exceed 2 years and may, with prior OPM approval, be extended for an additional 2 years.

(j) National Oceanic and Atmospheric Administration—

(1)-(2) (Reserved)

(3) All civilian positions on vessels operated by the National Ocean Service.

(4) Temporary positions required in connection with the surveying operations of the field service of the National Ocean Service. Appointment to such positions shall not exceed 8 months in any 1 calendar year.

(k) (Reserved)

(l) National Telecommunication and Information Administration—

(1) Thirty-eight professional positions in grades GS-13 through GS-15.

15. Department of Labor (Sch. A, 213.3115)

(a) Office of the Secretary—

(1) Chairman and five members, Employees' Compensation Appeals Board.

(2) Chairman and eight members, Benefits Review Board.

(b)-(c) (Reserved)

(d) Employment and Training Administration—

(1) Not to exceed 10 positions of Supervisory Manpower Development Specialist and Manpower Development Specialist, GS-7/15, in the Division of Indian and Native American Programs, when filled by the appointment of persons of one-fourth or more Indian blood. These positions require direct contact with Indian Tribes and communities for the development and administration of comprehensive employment and training programs.

16. Department of Health and Human Services (Sch. A, 213.3116)

(a) General—

(1) Intermittent positions, at GS-15 and below and WG-10 and below, on teams under the National Disaster Medical System including Disaster Medical Assistance Teams and specialty teams, to respond to disasters, emergencies, and incidents/events involving medical, mortuary and public health needs.

(b) Public Health Service—

(1) (Reserved)

(2) Positions at Government sanatoria when filled by patients during treatment or convalescence.

(3) (Reserved)

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved)

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved)

(10) Health care positions of the National Health Service Corps for employment of any one individual not to exceed 4 years of service in health manpower shortage areas.

(11)-(14) (Reserved)

(15) Not to exceed 200 staff positions, GS-15 and below, in the Immigration Health Service, for an emergency staff to provide health related services to foreign entrants.

(c)-(e) (Reserved)

(f) The President's Council on Physical Fitness—

(1) Four staff assistants.

17. Department of Education (Sch. A, 213.3117)

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

18. Board of Governors, Federal Reserve System (Sch. A, 213.3118)

(a) All positions.

27. Department of Veterans Affairs (Sch. A, 213.3127)

(a) Construction Division—

(1) Temporary construction workers paid from “purchase and hire” funds and appointed for not to exceed the duration of a construction project.

(b) Alcoholism Treatment Units and Drug Dependence Treatment Centers—

(1) Not to exceed 400 positions of rehabilitation counselors, GS-3 through GS-11, in Alcoholism Treatment Units and Drug Dependence Treatment Centers, when filled by former patients.

(c) Board of Veterans' Appeals—

(1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Vietnam Era Veterans Readjustment Counseling Service—

(1) Not to exceed 600 positions at grades GS-3 through GS-11, involved in the Department's Vietnam Era Veterans Readjustment Counseling Service.

33. Federal Deposit Insurance Corporation (Sch. A, 213.3133)

(a)-(b) (Reserved)

(c) Temporary or time-limited positions located at closed banks or savings and loan institutions that are concerned with liquidating the assets of the institutions, liquidating loans to the institutions, or paying the depositors of closed insured institutions. Time-limited appointments under this authority may not exceed 7 years.

36. U.S. Soldiers' and Airmen's Home (Sch. A, 3136)

(a) (Reserved)

(b) Positions when filled by member-residents of the Home.

40. Small Business Administration (Sch. A, 213.3140)

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office of Personnel Management approval. Appointments under this authority may not be used to extend the 2-year service limit contained below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

46. Selective Service System (Sch. A, 213.3146)

(a) State Directors.

48. National Aeronautics and Space Administration (Sch. A, 213.3148)

(a) One hundred and fifty alien scientists having special qualifications in the fields of aeronautical and space research where such employment is deemed by the Administrator of the National Aeronautics and Space Administration to be necessary in the public interest.

55. Social Security Administration (Sch. A, 213.3155)

(a) Arizona District Offices—

(1) Six positions of Social Insurance Representative in the district offices of the Social Security Administration in the State of Arizona when filled by the appointment of persons of one-fourth or more Indian blood.

(b) New Mexico—

(1) Seven positions of Social Insurance Representative in the district offices of the Social Security Administration in the State of New Mexico when filled by the appointment of persons of one-fourth or more Indian blood.

(c) Alaska—

(1) Two positions of Social Insurance Representative in the district offices of the Social Security Administration in the State of Alaska when filled by the appointments of persons of one-fourth or more Alaskan Native blood (Eskimos, Indians, or Aleuts).

62. The President's Crime Prevention Council (Sch. A, 213.3162)

(a) (Reserved)

65. Chemical Safety and Hazard Investigation Board (Sch. A, 213.3165)

(a) (Reserved)

(b) (Reserved)

66. Court Services and Offender Supervision Agency of the District of Columbia

(a) (Reserved, expired 3/31/2004)

70. Millennium Challenge Corporation (MCC) (Sch. A, 213.3170)

(a) (Reserved, expired 9/30/2007)

(b) (1) Positions of Resident Country Directors and Deputy Resident Country Directors. The length of appointments will correspond to the length or term of the compact agreements made between the MCC and the country in which the MCC will work, plus one additional year to cover pre and post -compact agreement related activities.

74. Smithsonian Institution (Sch. A, 213.3174)

(a) (Reserved)

(b) Smithsonian Tropical Research Institute—All positions located in Panama which are part of or which support the Smithsonian Tropical Research Institute.

(c) National Museum of the American Indian—Positions at GS-15 and below requiring knowledge of and experience in, Tribal customs and culture. Such positions comprise approximately 10 percent of the Museum's positions and, generally, do not include secretarial, clerical, administrative, or program support positions.

75. Woodrow Wilson International Center for Scholars (Sch. A, 213.3175)

(a) One Asian Studies Program Administrator, one International Security Studies Program Administrator, one Latin American Program Administrator, one Russian Studies Program Administrator, one West European Program Administrator, one Environmental Change & Security Studies Program Administrator, one United States Studies Program Administrator, two Social Science Program Administrators, and one Middle East Studies Program Administrator.

78. Community Development Financial Institutions Fund (Sch. A, 213.3178)

(a) (Reserved, expired 9/23/1998)

80. Utah Reclamation and Conservation Commission (Sch. A, 213.3180)

(a) Executive Director.

82. National Foundation on the Arts and the Humanities (Sch. A, 213.3182)

(a) National Endowment for the Arts—

(1) Artistic and related positions at grades GS-13 through GS-15 engaged in the review, evaluation and administration of applications and grants supporting the arts, related research and assessment, policy and program development, arts education, access programs and advocacy or evaluation of critical arts projects and outreach programs. Duties require artistic stature, in-depth knowledge of arts disciplines and/or artistic-related leadership qualities.

90. African Development Foundation (Sch. A, 213.3190)

(a) One Enterprise Development Fund Manager. Appointment is limited to four years unless extended by OPM.

91. Office of Personnel Management (Sch. A, 213.3191)

(a)-(c) (Reserved)

(d) Part-time and intermittent positions of test examiners at grades GS-8 and below.

94. Department of Transportation (Sch. A, 213.3194)

(a) U.S. Coast Guard—

(1) (Reserved)

(2) Lamplighters.

(3) Professors, Associate Professors, Assistant Professors, Instructors, one Principal Librarian, one Cadet Hostess, and one Psychologist (Counseling) at the Coast Guard Academy, New London, Connecticut.

(b)-(d) (Reserved)

(e) Maritime Administration—

(1)-(2) (Reserved)

(3) All positions on Government-owned vessels or those bareboats chartered to the Government and operated by or for the Maritime Administration.

(4)-(5) (Reserved)

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

95. Federal Emergency Management Agency (Sch. A, 213.3195)

(a) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort.

(b) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority.

(c) Not to exceed 350 professional and technical positions at grades GS-5 through GS-15, or equivalent, in Mobile Emergency Response Support Detachments (MERS).

Schedule B

03. Executive Office of the President (Sch. B, 213.3203)

(a) (Reserved)

(b) Office of the Special Representative for Trade Negotiations—

(1) Seventeen positions of economist at grades GS-12 through GS-15.

04. Department of State (Sch. B, 213.3204)

(a)(1) One non-permanent senior level position to serve as Science and Technology Advisor to the Secretary.

(b)-(c) (Reserved)

(d) Seventeen positions on the household staff of the President's Guest House (Blair and Blair-Lee Houses).

(e) (Reserved)

(f) Scientific, professional, and technical positions at grades GS-12 to GS-15 when filled by persons having special qualifications in foreign policy matters. Total employment under this authority may not exceed 4 years.

05. Department of the Treasury (Sch. B, 213.3205)

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved)

(d) Positions concerned with the protection of the life and safety of the President and members of his immediate family, or other persons for whom similar protective services are prescribed by law, when filled in accordance with special appointment procedures approved by OPM. Service under this authority may not exceed:

(1) a total of 4 years; or

(2) 120 days following completion of the service required for conversion under Executive Order 11203.

(e) Positions, grades GS-5 through 12, of Treasury Enforcement Agent in the Bureau of Alcohol, Tobacco, and Firearms; and Treasury Enforcement Agent, Pilot, Marine Enforcement Officer, and Aviation Enforcement Officer in the U.S. Customs Service. Service under this authority may not exceed 3 years and 120 days.

06. Department of Defense (Sch. B, 213.3206)

(a) Office of the Secretary—

(1) (Reserved)

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved)

(5) Four Net Assessment Analysts.

(b) Interdepartmental activities—

(1) Seven positions to provide general administration, general art and information, photography, and/or visual information support to the White House Photographic Service.

(2) Eight positions, GS-15 or below, in the White House Military Office, providing support for airlift operations, special events, security, and/or administrative services to the Office of the President.

(c) National Defense University—

(1) Sixty-one positions of Professor, GS-13/15, for employment of any one individual on an initial appointment not to exceed 3 years, which may be renewed in any increment from 1 to 6 years indefinitely thereafter.

(d) General—

(1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General—

(1) Positions of Criminal Investigator, GS-1811-5/15.

(f) Department of Defense Polygraph Institute, Fort McClellan, Alabama—

(1) One Director, GM-15.

(g) Defense Security Assistance Agency—

All faculty members with instructor and research duties at the Defense Institute of Security Assistance Management, Wright Patterson Air Force Base, Dayton, Ohio. Individual appointments under this authority will be for an initial 3-year period, which may be followed by an appointment of indefinite duration.

07. Department of the Army (Sch. B, 213.3207)

(a) U.S. Army Command and General Staff College—

(1) Seven positions of professors, instructors, and education specialists. Total employment of any individual under this authority may not exceed 4 years.

08. Department of the Navy (Sch. B, 213.3208)

(a) Naval Underwater Systems Center, New London, Connecticut—

(1) One position of Oceanographer, grade GS-14, to function as project director and manager for research in the weapons systems applications of ocean eddies.

(b) Armed Forces Staff College, Norfolk, Virginia—All civilian faculty positions of professors, instructors, and teachers on the staff of the Armed Forces Staff College, Norfolk, Virginia.

(c) Defense Personnel Security Research and Education Center—One Director and four Research Psychologists at the professor or GS-15 level.

(d) Marine Corps Command and Staff College—All civilian professor positions.

(e) Executive Dining facilities at the Pentagon—One position of Staff Assistant, GS-301, whose incumbent will manage the Navy's Executive Dining facilities at the Pentagon.

(f) (Reserved)

09. Department of the Air Force (Sch. B, 213.3209)

(a) Air Research Institute at the Air University, Maxwell Air Force Base, Alabama—Not to exceed four interdisciplinary positions for the Air Research Institute at the Air University, Maxwell Air Force Base, Alabama, for employment to complete studies proposed by candidates and acceptable to the Air Force. Initial appointments are made not to exceed 3 years, with an option to renew or extend the appointments in increments of 1, 2, or 3 years indefinitely thereafter.

(b)-(c) (Reserved)

(d) Air University—Positions of Instructor or professional academic staff at the Air University associated with courses of instruction of varying durations, for employment not to exceed 3 years, which may be renewed for an indefinite period thereafter.

(e) U.S. Air Force Academy, Colorado—One position of Director of Development and Alumni Programs, GS-301-13.

10. Department of Justice (Sch. B, 213.3210)

(a) Drug Enforcement Administration—

Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved)

(c) Not to exceed 400 positions at grades GS-5 through 15 assigned to regional task forces established to conduct special investigations to combat drug trafficking and organized crime.

(d) (Reserved)

(e) United States Trustees—Positions, other than secretarial, GS-6 through GS-15, requiring knowledge of the bankruptcy process, on the staff of the offices of United States Trustees or the Executive Office for U.S. Trustees.

13. Department of Agriculture (Sch. B, 213.3213)

(a) Foreign Agricultural Service—

(1) Positions of a project nature involved in international technical assistance activities. Service under this authority may not exceed 5 years on a single project for any individual unless delayed completion of a project justifies an extension up to but not exceeding 2 years.

(b) General—

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service.

(2) Not to exceed 55 Executive Director positions, GM-301-14/15, with the State Rural Development Councils in support of the Presidential Rural Development Initiative.

14. Department of Commerce (Sch. B, 213.3214)

(a) Bureau of the Census—

(1) (Reserved)

(2) Not to exceed 50 Community Services Specialist positions at the equivalent of GS-5 through 12.

(b)-(c) (Reserved)

(d) National Telecommunications and Information Administration—

(1) Not to exceed 10 Telecommunications Policy Analysts, grades GS-11 through 15. Employment under this authority may not exceed 2 years.

15. Department of Labor (Sch. B, 213.3215)

(a) Administrative Review Board—Chair and a maximum of four additional Members.

(b) (Reserved)

(c) Bureau of International Labor Affairs—

(1) Positions in the Office of Foreign Relations, which are paid by outside funding sources under contracts for specific international labor market technical assistance projects. Appointments under this authority may not be extended beyond the expiration date of the project.

17. Department of Education (Sch. B, 213.3217)

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

27. Department of Veterans Affairs (Sch. B, 213.3227)

(a) Not to exceed 800 principal investigatory, scientific, professional, and technical positions at grades GS-11 and above in the medical research program.

(b) Not to exceed 25 Criminal Investigator (Undercover) positions, GS-1811, in grades 5 through 12, conducting undercover investigations in the Veterans Health Administration (VA) supervised by the VA, Office of Inspector General. Initial appointments shall be greater than 1 year, but not to exceed 4 years and may be extended indefinitely in 1-year increments.

28. Broadcasting Board of Governors (Sch. B, 213.3228)

(a) International Broadcasting Bureau—

(1) Not to exceed 200 positions at grades GS-15 and below in the Office of Cuba Broadcasting. Appointments may not be made under this authority to administrative, clerical, and technical support positions.

36. U.S. Soldiers' and Airmen's Home (Sch. B, 213.3236)

(a) (Reserved)

(b) Director, Health Care Services; Director, Member Services; Director, Logistics; and Director, Plans and Programs.

40. National Archives and Records Administration (Sch. B, 213.3240)

(a) Executive Director, National Historical Publications and Records Commission.

48. National Aeronautics and Space Administration (Sch. B, 213.3248)

(a) Not to exceed 40 positions of Astronaut Candidates at grades GS-11 through 15. Employment under this authority may not exceed 3 years.

55. Social Security Administration (Sch. B, 213.3255)

(a) (Reserved)

74. Smithsonian Institution (Sch. B, 213.3274)

(a) (Reserved)

(b) Freer Gallery of Art—

(1) Not to exceed four Oriental Art Restoration Specialists at grades GS-9 through GS-15.

76. Appalachian Regional Commission (Sch. B, 213.3276)

(a) Two Program Coordinators.

78. Armed Forces Retirement Home (Sch. B, 213.3278)

(a) Naval Home, Gulfport, Mississippi—

(1) One Resource Management Officer position and one Public Works Officer position, GS/GM-15 and below.

82. National Foundation on the Arts and the Humanities (Sch. B, 213.3282)

(a) (Reserved)

(b) National Endowment for the Humanities—

(1) Professional positions at grades GS-11 through GS-15 engaged in the review, evaluation, and administration of grants supporting scholarship, education, and public programs in the humanities, the duties of which require in-depth knowledge of a discipline of the humanities.

91. Office of Personnel Management (Sch. B, 213.3291)

(a) Not to exceed eight positions of Associate Director at the Executive Seminar Centers at grades GS-13 and GS-14. Appointments may be made for any period up to 3 years and may be extended without prior approval for any individual. Not more than half of the authorized faculty positions at any one Executive Seminar Center may be filled under this authority.

(b) Federal Executive Institute—Twelve positions of faculty members at grades GS-13 through 15. Initial appointments under this authority may be made for any period up to 3 years and may be extended in 1, 2, or 3-year increments indefinitely thereafter.

Schedule C

The following summaries of Schedule C exceptions, current as of June 30, 2010, are agency-specific and are not codified in the Code of Federal Regulations.

Council of Economic Advisers

CEGS60001 Confidential Assistant for Council of Economic Advisers

CEGS60004 Confidential Assistant for Council of Economic Advisers

CEGS60005 Administrative Operations Assistant to the Member (Council for Economic Advisers)

Office of Government Ethics

GGGS02900 Confidential Assistant to the Director

Office of Management and Budget

BOGS10001 Special Assistant for the Office of Management and Budget

BOGS10002 Advisor for the Office of Management and Budget

BOGS10003 Advisor for the Office of Management and Budget

BOGS10005 Special Assistant for Health

BOGS10007 Advisor for the Office of Management and Budget

BOGS10010 Confidential Assistant for the Office of Management and Budget

BOGS10014 Special Assistant for Legislative Affairs

BOGS10015 Special Assistant for the Office of Management and Budget

BOGS10017 Special Assistant to the Executive Associate Director

BOGS10020 Press Secretary, Management for, Strategic Planning and Communications

BOGS10021 Confidential Assistant to the General Counsel

BOGS60027 Confidential Assistant for the Office of Information and Regulatory Affairs

BOGS90016 Confidential Assistant for Economic Policy

BOGS90017 Confidential Assistant for General Government Programs

BOGS90018 Confidential Assistant for National Security Programs

BOGS90022 Confidential Assistant for Strategic Planning and Communications

BOGS90024 Legislative Assistant for Legislative Affairs

BOGS90027 Confidential Assistant and Counselor to the Administrator

BOGS90029 Confidential Assistant to the General Counsel

BOGS90031 Deputy to the Associate Director for Legislative Affairs (House)

BOGS90033 Deputy to the Associate Director for Legislative Affairs (House)

Office of National Drug Control Policy

QQGS90001 Confidential Assistant to the Director

QQGS90002 Program Support Specialist (Office of Public Affairs) to the Chief of Staff

QQGS90003 Policy Analyst for Intergovernmental Affairs

QQGS90004 Policy Advisor to the Chief of Staff

QQGS90005 Deputy Associate Director, Public Affairs

QQGS90006 Outreach and Events Coordinator for Intergovernmental Affairs

QQGS90007 Associate Director, Public Affairs

QQGS90009 Associate Director for Intergovernmental Affairs

QQGS90010 Senior Policy Advisor to the Director

Office of the United States Trade Representative

TNGS00007 Public Affairs Specialist for Public and Media Affairs

TNGS70002 Special Assistant to the Deputy United States Trade Representative

TNGS90001 Deputy Assistant to the United States Trade Representative for Intergovernment Affairs and Public Liaison

TNGS90002 Congressional Affairs Specialist

TNGS90005 Confidential Assistant to the Chief of Staff

Official Residence of the Vice President

RVGS00005 Deputy Social Secretary and Residence Manager to the Vice President and Deputy Chief of Staff

Presidents Commission on White House Fellowships

WHGS00018 Special Assistant for the President's Commission on White House Fellowships

WHGS00020 Staff Assistant to the Associate Director

WHGS31270 Associate Director for the President's Commission on White House Fellowships

WHGS31271 Staff Assistant for the President's Commission on White House Fellowships

WHGS31288 Education Director for the President's Commission on White House Fellowships

Office of Science and Technology Policy

TSGS09001 Executive Assistant for Science and Technology

TSGS09005 Confidential Assistant to the Associate Director, Technology

TSGS10001 Confidential Assistant for Environment

TSGS10002 Assistant Director for Legislative Affairs for Science and Technology

TSGS10003 Executive Assistant for Science and Technology

Department of State (Sch. C, 213.3304)

DSGS61224 Legislative Management Officer for Legislative and Intergovernmental Affairs

DSGS69808 Staff Assistant to the Deputy Secretary

DSGS69825 IT Specialist for Policy and Planning for Management

DSGS69845 Deputy Chief of Staff for Operations to the Secretary of State

DSGS69848 Executive Assistant to the Deputy Secretary

DSGS69849 Staff Assistant to the Ambassador At Large and HIV/AIDS Coordinator

DSGS69851 Special Assistant to the Secretary of State

DSGS69852 Special Assistant for Public Diplomacy and Public Affairs

DSGS69853 Staff Assistant for the Bureau of Educational and Cultural Affairs

DSGS69854 Policy Advisor/Chief Speechwriter to the Director, Policy Planning Staff

DSGS69857 Staff Assistant for Global Affairs

DSGS69858 Deputy Assistant Secretary for Public Affairs

DSGS69859 Protocol Officer Visits to the Chief of Protocol

DSGS69860 Staff Assistant to the Secretary of State

DSGS69861 Special Assistant—International Communications and Information Policy

DSGS69863 Deputy Chief of Staff for Policy

DSGS69864 Staff Assistant for Operations

DSGS69865 Special Assistant to the Chief of Staff/Counselor

DSGS69872 Legislative Management Officer for Legislative and Intergovernmental Affairs

DSGS69886 Protocol Officer (Visits) to the Chief of Protocol

DSGS69916 Staff Assistant for Public Affairs

DSGS69919 Assistant Manager, President's Guest House

DSGS69920 Staff Assistant for Near Eastern and South Asian Affairs

DSGS69921 Staff Assistant to the Director, Policy Planning Staff

DSGS69922 Staff Assistant to the Director, Policy Planning Staff

DSGS69923 Assistant Chief of Protocol, Ceremonials

DSGS69924 Protocol Officer (Visits) to the Chief of Protocol

DSGS69925 Legislative Management Officer for Legislative and Intergovernmental Affairs

DSGS69926 Public Affairs Specialist to the Assistant Secretary

DSGS69927 Staff Assistant for Consular Affairs

DSGS69931 Special Assistant for Global Women's Initiatives

DSGS69932 Staff Assistant for Public Affairs

DSGS69933 Senior Adviser to the Secretary of State

DSGS69942 Staff Assistant to the Secretary of State

DSGS69944 Staff Assistant for Western Hemispheric Affairs

DSGS69945 Staff Assistant for European and Eurasian Affairs

DSGS69946 Senior Advisor to the Director, Policy Planning Staff

DSGS69947 Assistant Chief of Protocol (Visits)

DSGS69948 Deputy Assistant Secretary for Legislative and Intergovernmental Affairs

DSGS69950 Staff Assistant to the Secretary of State

DSGS69951 Staff Assistant to the Special Envoy With the Rank of Ambassador

DSGS69952 Supervisory Protocol Officer (Visits)

DSGS69953 Special Assistant/Speechwriter to the Director, Policy Planning Staff

DSGS69954 Special Assistant for Public Affairs

DSGS69962 Protocol Officer, Ceremonials

DSGS69963 Staff Assistant to the Director, Policy Planning Staff

DSGS69970 Public Affairs Specialist

DSGS69971 Staff Assistant to the Director, Policy Planning Staff

DSGS69973 Staff Assistant to the Deputy Secretary

DSGS69975 Special Assistant to the Secretary of State

DSGS69976 Special Assistant for Management

DSGS69977 Staff Assistant, Senior Gifts Officer

DSGS69978 Staff Assistant to the Chief of Protocol

DSGS69981 Senior Advisor for Public Diplomacy and Public Affairs

DSGS69983 Special Assistant to the Counselor

DSGS69984 Public Affairs Specialist

DSGS69985 Senior Advisor to the Secretary of State

DSGS69986 Executive Director, United Nations Educational, Scientific and Cultural Organization for International Organizational Affairs

DSGS69987 Staff Assistant for Economic and Business Affairs

DSGS69999 Program Analyst for Population, Refugees, and Migration

DSGS70004 Special Assistant for African Affairs

DSGS70005 Senior Advisor to the Chief of Protocol

DSGS70006 Deputy Chief of Protocol

DSGS70007 Deputy Chief of Protocol

DSGS70008 Public Affairs Specialist

DSGS70011 Staff Assistant for Arms Control and Security Affairs

DSGS70012 Legislative Management Officer for Legislative and Intergovernmental Affairs

DSGS70014 Staff Assistant Bureau of Political-Military Affairs

DSGS70016 Staff Assistant for the Bureau of Educational and Cultural Affairs

DSGS70018 Staff Assistant for Global Women's Initiatives

DSGS70019 Staff Assistant for Public Affairs

DSGS70029 Director, International Affairs for the Bureau of Educational and Cultural Affairs

DSGS70030 Staff Assistant for Public Affairs

DSGS70031 Staff Assistant to the Secretary and White House Liaison

DSGS70032 Special Assistant for Econ Business and Agric Affairs

DSGS70033 Staff Assistant to the Director, Policy Planning Staff

DSGS70038 Senior Advisor for Management

DSGS70044 Staff Assistant for Middle East Peace

DSGS70045 Staff Assistant for Arms Control and Security Affairs

DSGS70046 Special Assistant for Global Women's Initiatives

DSGS70047 Staff Assistant to the Secretary of State

DSGS70051 Staff Assistant for the Bureau of Educational and Cultural Affairs

DSGS70053 Legislative Liaison Specialist for Near Eastern and South Asian Affairs

DSGS70058 Staff Assistant for Public Affairs

DSGS70064 Staff Assistant for Democracy Human Rights and Labor

DSGS70069 Special Assistant to the Ambassador At-Large and HIV/AIDS Coordinator

DSGS70075 Special Assistant to the Ambassador At-Large, Director

DSGS70076 Special Assistant for East Asian and Pacific Affairs

DSGS70077 Senior Advisor for Management and Resources

DSGS70080 Staff Assistant to the Chief of Staff/Counselor

DSGS70083 Staff Assistant to the Ambassador At-Large (War Crimes)

DSGS70084 Special Assistant for European and Eurasian Affairs

DSGS70085 White House Liaison for Management

DSGS70090 Senior Advisor for Western Hemispheric Affairs

DSGS70091 Staff Assistant to the Secretary of State

DSGS70092 Staff Assistant for Management

DSGS70093 Staff Assistant to the Chief of Protocol

DSGS70096 Senior Advisor for Business and Commerce

DSGS70098 Senior Advisor for Intergovernmental Global Affairs

DSGS70101 Special Assistant Bureau of International Narcotics and Law Enforcement Affairs

DSGS70103 Staff Assistant for International Disability Rights

DSGS70104 Special Assistant for Public Affairs

DSGS70105 Special Assistant for Public Affairs

DSGS70106 Senior Policy Advisor to the Secretary on Innovation

DSGS70107 Assistant Chief of Protocol

DSGS70115 Public Affairs Specialist for Western Hemispheric Affairs

Department of the Treasury (Sch. C, 213.3305)

DYGS00372 Special Assistant for Financial Markets

DYGS00375 Director of Legislative and Governmental Affairs for the Mint

DYGS00384 Special Assistant to the Chief of Staff

DYGS00407 Executive Assistant to the Senior Advisor

DYGS00410 Special Assistant to the Deputy Secretary of the Treasury

DYGS00413 White House Liaison to the Chief of Staff

DYGS00419 Special Assistant to the Executive Secretary

DYGS00424 Special Assistant to the Assistant Secretary (Economic Policy)

DYGS00434 Special Assistant to the Deputy Chief of Staff

DYGS00435 Executive Assistant to the Secretary

DYGS00446 Special Assistant (Deputy Under Secretary) for Legislative Affairs

DYGS00448 Confidential Assistant to the Senior Advisor

DYGS00450 Staff Assistant to the Deputy Assistant Secretary (Public Affairs Operations)

DYGS00455 Special Assistant to the Financial Restructuring Specialist

DYGS00457 Deputy Executive Secretary to the Executive Secretary

DYGS00459 Special Assistant to the Director of Legislative and Governmental Affairs

DYGS00460 Senior Advisor and Chief of Staff for Terrorism and Financial Crimes

DYGS00461 Senior Advisor to the Assistant Secretary (Tax Policy)

DYGS00464 Special Assistant for Legislative Affairs

DYGS00468 Public Affairs Specialist to the Deputy Assistant Secretary (Public Affairs Operations)

DYGS00479 Speechwriter

DYGS00482 Deputy Executive Secretary to the Executive Secretary

DYGS00483 Senior Advisor to the Assistant Secretary (Terrorist Financing)

DYGS00485 Special Assistant to the Deputy Executive Secretary

DYGS00487 Deputy Executive Secretary

DYGS00490 Special Assistant for China and the Strategic Economic Dialogue

DYGS00494 Special Assistant to the Director of the Mint

DYGS00495 Associate Director of Operations for Advance

DYGS00497 Senior Advisor to the Assistant Secretary (Financial Institutions)

DYGS00499 Deputy Chief of Staff for External Affairs

DYGS00501 Special Assistant to the Under Secretary for Domestic Finance

DYGS00503 Senior Advisor to the Director of the Mint

DYGS00504 Special Assistant for Financial Markets

DYGS00506 Special Assistant to the Chief of Staff

DYGS00507 Special Assistant to the Secretary

DYGS00508 Special Assistant to the Executive Secretary

DYGS00511 Special Assistant to the Secretary

DYGS00513 Senior Advisor to the Secretary

DYGS00514 Special Assistant for the Treasury

DYGS00516 Special Assistant to the Secretary

DYGS00518 Public Affairs Specialist to the Deputy Assistant Secretary (Public Affairs Operations)

DYGS00519 Financial Restructuring Specialist to the Secretary

DYGS00520 Special Assistant to the Assistant Secretary (Economic Policy)

DYGS00522 Special Assistant of Scheduling and Advance

DYGS00524 Special Assistant to the Secretary

DYGS00525 Deputy Executive Secretary

DYGS00527 Senior Advisor to the Chief of Staff

DYGS00844 Public Affairs Specialist to the Deputy Assistant Secretary (Public Affairs Operations)

DYGS01377 Staff Assistant of Scheduling and Advance

DYGS60139 Director to the Chief of Staff

DYGS60277 Speechwriter to the Assistant Secretary (Public Affairs)

DYGS60317 Public Affairs Specialist to the Assistant Secretary (Public Affairs)

DYGS60351 Senior Advisor to the Assistant Secretary (Public Affairs)

DYGS60381 Special Assistant, Appropriations for Legislative Affairs (Appropriations and Management)

DYGS60391 Deputy Director, Advance of Scheduling

DYGS60412 Advance Specialist for Scheduling and Advance

DYGS60418 Special Assistant to the Executive Secretary

DYGS60421 Special Assistant for Legislative Affairs (Tax and Budget)

Department of Defense (Sch. C, 213.3306)

DDGS16692 Confidential Assistant to the Secretary of Defense

DDGS16908 Civilian Executive Assistant for White House Liaison

DDGS16909 Staff Assistant for White House Liaison

DDGS16914 Personal and Confidential Assistant to the Deputy Secretary of Defense

DDGS17001 Speechwriter to the Assistant Secretary of Defense (Public Affairs)

DDGS17002 Confidential Assistant for Defense Personnel and Readiness

DDGS17029 Administrative Assistant for White House Liaison

DDGS17030 Staff Assistant to the Deputy Assistant Secretary of Defense (North Atlantic Treaty Organization and Europe)

DDGS17039 Confidential Assistant to the Secretary of Defense

DDGS17079 Special Assistant (International Security Affairs)

DDGS17083 Confidential Assistant to the Secretary and Deputy Secretary of Defense

DDGS17131 Special Assistant (Special Operations/Low Intensity Conflict and Interdependent Capabilities)

DDGS17150 Protocol Officer of Defense

DDGS17151 Special Assistant for Protocol

DDGS17166 Special Assistant for White House Liaison

DDGS17185 Staff Assistant for Policy

DDGS17186 Staff Assistant for Policy

DDGS17189 Speechwriter

DDGS17190 Special Assistant to the General Counsel

DDGS17191 Senior Advisor to the General Counsel

DDGS17192 Special Assistant for Strategy, Plans, and Forces

DDGS17193 Principal Director (Western Hemisphere Affairs)

DDGS17195 Special Assistant (Comptroller)

DDGS17196 Principal Director African Affairs

DDGS17197 Senior Advisor to the Under Secretary of Defense for Policy

DDGS17201 Staff Assistant for Public Affairs (Press Secretary)

DDGS17202 Principal Director, Nuclear and Missile Defense Policy (Global Strategic Affairs)

DDGS17203 Advance Officer

DDGS17204 Confidential Assistant

DDGS17205 Special Assistant for Homeland Defense and Americas' Security Affairs

DDGS17206 Special Assistant (Budget and Appropriations Affairs)

DDGS17209 Special Assistant (Acquisition, Technology, and Logistics)

DDGS17210 Special Assistant of Defense (International Security Affairs)

DDGS17211 Special Assistant (Middle East)

DDGS17212 Special Assistant for Policy

DDGS17213 Special Assistant (Reserve Affairs)

DDGS17214 Special Assistant (Nuclear, Chemical, and Biological Defense

Programs)

DDGS17215 Special Assistant (Legislative Affairs)

DDGS17216 Special Assistant (Central Asia)

DDGS17217 Special Assistant of Net Assessment

DDGS17218 Special Assistant (Legislative Affairs)

DDGS17219 Special Assistant, Policy Support Division (Legislative Affairs)

DDGS17220 Special Assistant for South and Southeast Asia

DDGS17222 Special Assistant for Communications (Legislative Affairs)

DDGS17223 Special Assistant (International Security Affairs)

DDGS17224 Special Assistant (Middle East)

DDGS17225 Special Assistant (Asian and Pacific Security Affairs)

DDGS17226 Special Assistant (Western Hemisphere Affairs)

DDGS17227 Special Assistant (Global Strategic Affairs)

DDGS17228 Special Assistant (Russia, Ukraine, and Eurasia)

DDGS17229 Special Assistant (Special Operations and Combating Terrorism) (Special Operations/Low Intensity Conflict and Interdependent Capabilities)

DDGS17230 Advance Officer

DDGS17231 Director, Advance Office

DDGS17232 Special Assistant (East Asia)

DDGS17233 Special Assistant to the Principal Deputy Under Secretary (Policy) to the Principal Deputy Under Secretary for Policy

DDGS17234 Special Assistant (Detainee Policy)

DDGS17235 Special Assistant (Global Strategic Affairs)

DDGS17236 Public Affairs Specialist

DGS17237 Special Assistant for Asian and Pacific Security Affairs (Legislative Affairs)

DDGS17238 Special Assistant (Legislative Affairs)

DDGS17239 Special Assistant for Networks and Information Integration (Legislative Affairs)

DDGS17240 Defense Fellow for White House Liaison

DDGS17242 Defense Fellow for White House Liaison

DDGS17243 Defense Fellow for White House Liaison

DDGS17244 Defense Fellow for White House Liaison

DDGS17246 Special Assistant (Asian and Pacific Security Affairs)

DDGS17247 Defense Fellow for White House Liaison

DDGS17248 Defense Fellow for White House Liaison

DDGS17249 Defense Fellow for White House Liaison

DDGS17250 Defense Fellow for White House Liaison

DDGS17251 Staff Assistant for White House Liaison

DDGS17252 Advance Officer to the Director

DDGS17253 Advance Officer to the Director

DDGS17254 Defense Fellow for White House Liaison

DDGS17255 Special Assistant (Special Operations/Low Intensity Conflict and Interdependent Capabilities)

DDGS17256 Associate Director for New Media for Public Affairs

DDGS17257 Public Affairs Specialist for Public Affairs

DDGS17258 Staff Assistant for White House Liaison

DDGS17259 Special Assistant for Legislative Affairs

DDGS17260 Special Assistant for Legislative Affairs

DDGS17261 Speechwriter for Public Affairs

DDGS17264 Special Assistant for Legislative Affairs

DDGS17265 Deputy White House Liaison

DDGS17266 Special Assistant for Cyber and Space Policy

DDGS17267 Director for Joint Communications for Public Affairs

DDGS17268 Special Assistant for Legislative Affairs

DDGS17270 Special Assistant for Research for Speechwriting

DDGS17272 Associate Director for Joint Communication

DDGS17277 Special Assistant for Acquisition Technology and Logistics for Legislative Affairs

DDGS17279 Defense Fellow for White House Liaison

DDGS17280 Defense Fellow for White House Liaison

DDGS17281 Defense Fellow for White House Liaison

DDGS17282 Special Assistant for Public Affairs

DDGS17283 Protocol Officer

DDGS17284 Special Assistant for Research for Public Affairs

DDGS60312 Director, Cooperative Threat Reduction (Global Strategic Affairs)

DDGS60369 Executive Assistant of Force Transformation

Department of the Army (Sch. C, 213.3307)

DWGS00065 Special Assistant of the Army for Privatization and Partnerships

DWGS00077 Confidential Assistant of the Army (Civil Works)

DWGS00090 Special Assistant to the General Counsel

DWGS00092 Special Assistant to the General Counsel

DWGS00095 Personal and Confidential Assistant (Installations and Environment) of the Army (Installations and Environment)

DWGS00096 Personal and Confidential Assistant of the Army

DWGS10097 Special Assistant to the General Counsel

DWGS10098 Special Assistant of the Army (Manpower and Reserve Affairs)

DWGS10099 Special Assistant of the Army (Acquisition, Logistics and Technology)

DWGS10100 Special Assistant of the Army (Installations and Environment)

DWGS60002 Special Assistant of the Army

DWGS60019 Business Transformation Initiatives Analyst

DWGS60024 Personal and Confidential Assistant of the Army

DWGS60028 Personal and Confidential Assistant of the Army (Installations and Environment)

DWGS60032 Special Assistant of the Army (Environment, Safety and Occupational Health)

DWGS60064 Personal and Confidential Assistant of the Army (Manpower and Reserve Affairs)

DWGS60076 Special Assistant of the Army (Civil Works)

DWGS60095 Special Assistant of the Army (Civil Works)

DWGS90096 Special Assistant of the Army

Department of the Navy (Sch. C, 213.3308)

DNGS09030 Residential Manager and Social Secretary of the Vice President

DNGS09147 Special Assistant of the Navy (Manpower and Reserve Affairs)

DNGS09148 Special Assistant of the Navy for Plans, Policy, Oversight and Integration

DNGS09149 Special Assistant of the Navy (Financial Management and Comptroller)

DNGS09150 Special Assistant of the Navy

DNGS09152 Attorney Advisor to the General Counsel

DNGS09154 Special Assistant of the Navy for Business Operations and Transformation

DNGS09157 Special Assistant of the Navy

DNGS10852 Special Assistant of the Navy for Business Operations and Transformation

Department of the Air Force (Sch. C, 213.3309)

DFGS60020 Special Assistant to the General Counsel

DFGS60021 Special Assistant, Financial Administration and Programs

DFGS60024 Special Assistant of the Air Force (Manpower and Reserve Affairs)

Department of Justice (Sch. C, 213.3310)

DJGS00074 Confidential Assistant for Legislative Affairs

DJGS00076 Public Affairs Specialist—Texas, Western District

DJGS00082 Special Assistant—Environment and Natural Resources

DJGS00090 Chief of Staff and Counsel

DJGS00103 Counsel to the Associate Attorney General

DJGS00113 Senior Counsel to the Director, Community Relations Service

DJGS00114 Special Assistant to the Attorney General

DJGS00143 Counsel to the Assistant Attorney General Criminal Division

DJGS00155 Speechwriter to the Director, Office of Public Affairs

DJGS00157 Counsel to the Assistant Attorney General

DJGS00164 Counsel to the Assistant Attorney General

DJGS00176 Public Affairs Specialist to the Director, Office of Public Affairs

DJGS00179 Counsel to the Principal Deputy Assistant Attorney General

DJGS00187 Counsel to the Assistant Attorney General Civil Division

DJGS00193 Senior Counsel to the Assistant Attorney General

DJGS00204 Senior Counsel to the Deputy Attorney General

DJGS00233 Counsel to the Assistant Attorney General Civil Division

DJGS00238 Press Assistant to the Director, Office of Public Affairs

DJGS00246 Counsel—Environment and Natural Resources

DJGS00275 Senior Counsel to the Assistant Attorney General

DJGS00289 Counsel to the Deputy Attorney General

DJGS00297 Counsel to the Assistant Attorney General

DJGS00304 Associate Director to the Deputy Director

DJGS00333 Special Assistant to the Assistant Attorney General

DJGS00406 Public Affairs Specialist to the Director, Office of Public Affairs

DJGS00410 Senior Advisor to the Assistant Attorney General, Office of Justice Programs

DJGS00413 Executive Assistant to the United States Attorney

DJGS00441 Counsel to the Assistant Attorney General Tax Division

DJGS00470 Confidential Assistant to the Attorney General

DJGS00476 Counsel to the Deputy Attorney General

DJGS00478 Counsel to the Attorney General

DJGS00480 Confidential Assistant to the Assistant Attorney General

DJGS00481 Confidential Assistant to the Assistant Attorney General Criminal Division

DJGS00482 Senior Advisor to the Director

DJGS00486 Counsel to the Attorney General

DJGS00488 Public Affairs Specialist to the Director, Office of Public Affairs

DJGS00489 Senior Counsel to the Deputy Attorney General

DJGS00493 Special Assistant to the Director

DJGS00492 Counsel to the Deputy Assistant Attorney General

DJGS00497 Special Assistant to the Director, Bureau of Justice Assistance

DJGS00499 Confidential Assistant to the Director, Office on Violence Against Women

DJGS00502 Special Assistant to the Director, Office on Violence Against Women

DJGS00503 Director of Scheduling to the Attorney General

DJGS00504 Director of Advance to the Attorney General

DJGS00505 Confidential Assistant to the Solicitor General

DJGS00506 New Media Specialist to the Director, Office of Public Affairs

DJGS00511 Special Assistant to the Attorney General

DJGS00512 Counsel to the Assistant Attorney General Civil Division

DJGS00519 Attorney Advisor to the Assistant Attorney General (Legislative Affairs)

DJGS00527 Counsel to the Assistant Attorney General

DJGS00531 Research Assistant to the Director

DJGS00536 Special Assistant to the Director, Office on Violence Against Women

DJGS00537 Counsel to the Director

DJGS00540 Counsel to the Assistant Attorney General

DJGS00542 Staff Assistant to the Director

DJGS00544 Counselor to the Assistant Attorney General

DJGS00545 Senior Counsel to the Assistant Attorney General

DJGS00548 Counsel to the Assistant Attorney General

DJGS00551 Senior Counsel to the Assistant Attorney General

DJGS00553 Counsel and Chief of Staff to the Assistant Attorney General Environment and Natural Resources

DJGS00556 Speechwriter to the Director, Office of Public Affairs

DJGS00557 Senior Counsel to the Assistant Attorney General Civil Division

DJGS00558 Press Secretary to the Director, Office of Public Affairs

DJGS00600 Deputy Director for Policy Development to the Director, Office on Violence Against Women

DJGS00601 Counsel to the Assistant Attorney General

DJGS00602 Senior Advisor to the Assistant Attorney General, Office of Justice Programs

DJGS00603 Policy Advisor to the Assistant Attorney General, Office of Justice Programs

DJGS00604 Senior Counsel for Access to Justice

DJGS00605 Chief of Staff to the Assistant Attorney General, Office of Justice Programs

DJGS00606 Senior Counsel to the Deputy Attorney General

DJGS00607 Press Assistant to the Director, Office of Public Affairs

DJGS00610 Counsel to the Assistant Attorney General

DJGS60173 Secretary (Office Automation) to the United States Attorney, Oklahoma, Northern District

DJGS60437 Secretary (Office Automation) to the United States Attorney, Delaware

Department of Homeland Security (Sch. C, 213.3311)

DMGS00013 Special Assistant to the Deputy Chief of Staff (Policy)

DMGS00051 Senior Business Liaison for Private Sector

DMGS00131 Legislative Assistant for Legislative Affairs

DMGS00349 Senior Counselor for Infrastructure Protection

DMGS00397 Special Assistant to the Chief Human Capital Officer

DMGS00437 Counselor to the Director, United States Citizenship and Immigration Services

DMGS00449 Director of Legislative Affairs for the Federal Emergency Management Agency

DMGS00507 Business Liaison for Policy

DMGS00563 Deputy Press Secretary for Media Relations

DMGS00577 Deputy Director of the Center for Faith Based and Community Initiatives

DMGS00580 Associate Director of Strategic Communications for Public Affairs

DMGS00591 Senior Liaison Officer for Operations and Administration

DMGS00610 Director of Special Projects for Public Affairs

DMGS00613 Speechwriter to the Director of Speechwriting

DMGS00642 Senior Advisor, Office of Congressional Affairs, Customs, and Border Protection

DMGS00646 Assistant Press Secretary

DMGS00649 Deputy White House Liaison

DMGS00651 Press Assistant for Public Affairs

DMGS00656 Director of Speechwriting for Public Affairs

DMGS00664 Advance Representative for Scheduling and Advance

DMGS00669 Director of Legislative Affairs for Intelligence and Analysis for Legislative Affairs

DMGS00671 Coordinator for State and Local Affairs for Intergovernmental Programs

DMGS00674 Special Assistant for International Affairs

DMGS00683 Deputy Director of Scheduling for Trips for Operations and Administration

DMGS00689 Advance Representative for Scheduling and Advance

DMGS00692 Director of Congressional Relations

DMGS00713 Special Assistant for Policy

DMGS00717 Business Liaison/Private Sector for Private Sector

DMGS00720 Policy Analyst for International Affairs

DMGS00724 Executive Director, Homeland Security Advisory Committees for Policy

DMGS00726 Chief of Staff for Policy

DMGS00729 Special Assistant/Advisor to the Chief Privacy Officer

DMGS00738 Deputy Director of Scheduling and Protocol Coordination

DMGS00745 Assistant Press Secretary for Public Affairs

DMGS00749 Special Assistant to the Deputy Secretary

DMGS00754 Advisor for Intergovernmental Programs

DMGS00760 Director of Intergovernmental Affairs for External Affairs and Communications

DMGS00765 Special Advisor to the Deputy Chief of Staff (Policy)

DMGS00766 Program Analyst for National Protection and Programs Directorate

DMGS00768 New Media Specialist for Public Affairs

DMGS00769 Special Assistant to the White House Liaison

DMGS00770 Confidential Assistant for the Department of Homeland Security

DMGS00772 Assistant Director for Legislative Affairs

DMGS00775 Advisor to the Chief of Staff

DMGS00776 Regional Affairs Specialist for Policy

DMGS00777 Chief of Staff for Legislative Affairs

DMGS00779 Special Assistant for Policy Development

DMGS00781 Special Assistant for Science and Technology

DMGS00782 Regional Affairs Specialist for International (Policy)

DMGS00783 Director/Executive Secretariat, Private Sector Advisory Committee for Homeland Security Advisory Committees

DMGS00784 Secretary Briefing Book Coordinator for Operations and Administration

DMGS00786 Legislative Assistant for Legislative Affairs

DMGS00787 Director for Local Affairs for Intergovernmental Programs

DMGS00793 Press Secretary for External Affairs and Communications

DMGS00794 Advisor to the Chief of Staff

DMGS00795 Advisor for Strategic Communications

DMGS00797 Special Assistant for Immigration and Customs Enforcement

DMGS00802 Director of Special Projects to the Deputy Chief of Staff (Policy)

DMGS00803 Senior Advisor for Media and Communications of Public Affairs, Customs and Border Protection

DMGS00804 Advisor for Intergovernmental Affairs

DMGS00805 Special Assistant to the Director, Office of Counternarcotics Enforcement

DMGS00806 Special Assistant for Immigration and Customs Enforcement

DMGS00807 Special Assistant to the Chief of Staff

DMGS00808 Special Assistant to the Chief of Staff

DMGS00810 Policy Director for Homeland Security Advisory Committees

DMGS00812 Press Assistant for Public Affairs

DMGS00813 Special Assistant to the Deputy Chief of Staff (Policy)

DMGS00815 Confidential Assistant to the Chief of Staff

DMGS00818 Special Assistant to the Chief of Staff

DMGS00821 Traveling Press Secretary for External Affairs and Communications

DMGS00822 Counselor for Federal Emergency Management Agency

DMGS00823 Chief, Office of Citizenship

DMGS00825 Advisor for Federal Emergency Management Agency

DMGS00826 Special Assistant to the Senior Advisor

DMGS00829 Special Assistant for International Affairs

DMGS00830 Executive Assistant to the Commissioner, United States Customs and Border Protection

DMGS00834 Executive Assistant for the Department of Homeland Security

DMGS00835 Senior Advisor to the Chief of Staff

DMGS00837 Chief of Staff for Health Affairs and Chief Medical Officer

DMGS00838 Business Liaison for Private Sector

DMGS00839 Director of Communications for Immigration and Customs Enforcement

DMGS00841 Public Affairs Specialist for National Protection and Programs Directorate

DMGS00842 Program Analyst for National Protection and Programs Directorate

DMGS00843 Director of Strategic Communications for Public Affairs

DMGS00844 Press Secretary for Public Affairs

DMGS00845 Director of Individual and Community Preparedness for National Preparedness

DMGS00846 Counselor for United States Citizenship and Immigration Services

DMGS00847 Senior Advisor for Policy

DMGS00848 Special Assistant for Policy

DMGS00849 Director of Public Engagement for Intergovernmental Affairs

DMGS00850 Counselor to the Principal Deputy General Counsel

DMGS00851 Special Assistant for Policy

Department of the Interior (Sch. C, 213.3312)

DIGS00101 Special Assistant for Bureau of Land Management

DIGS00545 Assistant Director, Communications for National Park Service

DIGS00905 Senior Counselor to the Solicitor

DIGS01133 Special Assistant to the Chief of Staff

DIGS01134 Deputy Director, Office of Communications

DIGS01135 Special Assistant to the Secretary

DIGS01137 Special Assistant to the Deputy Chief of Staff

DIGS01138 Special Assistant to the Secretary

DIGS01139 Special Assistant to the Secretary

DIGS01142 Special Assistant for External and Intergovernmental Affairs

DIGS01144 Senior Advisor for Alaskan Affairs

DIGS01147 Press Secretary for Office of Communications

DIGS01148 Special Assistant of Indian Affairs

DIGS01149 Director of Advance to the Secretary

DIGS01150 Special Assistant for the Interior

DIGS01152 Special Assistant for the Interior

DIGS01156 Special Assistant to the Secretary

DIGS01157 Special Assistant to the Secretary

DIGS01158 Special Assistant to the Secretary

DIGS01159 Deputy Alaska Director for Alaskan Affairs

DIGS01160 Special Assistant for External and Intergovernmental Affairs

DIGS01164 Special Assistant for Land and Minerals Management

DIGS01166 Administrative Aide for External and Intergovernmental Affairs

DIGS01167 Special Assistant for Fish and Wildlife and Parks

DIGS01168 Counselor for Water and Science 2

DIGS01172 Special Assistant for Fish and Wildlife and Parks

DIGS01173 Special Assistant for Congressional and Legislative Affairs

DIGS01175 Deputy Director, Congressional and Legislative Affairs

DIGS01176 Senior Advisor for Northwest Region

DIGS01177 Special Assistant for Policy Management and Budget

DIGS01178 Senior Advisor for Southwest and Rocky Mountain Regions

DIGS01180 Science Advisor for Minerals Management Service

DIGS01181 Special Assistant for Land and Minerals Management

DIGS01182 Deputy Director, Congressional and Legislative Affairs

DIGS01183 Director, Office of Youth In Natural Resources for Policy Management and Budget

DIGS01184 Deputy White House Liaison

DIGS01186 Special Assistant for Policy, Management and Budget

DIGS01187 Senior Advisor to the Secretary

DIGS01188 Special Assistant for Advance

DIGS01190 Special Assistant of Ocean Energy Management, Regulation and Enforcement

DIGS10022 Chief of Staff for United States Fish and Wildlife Service

DIGS10118 Special Assistant to the Secretary

DIGS60134 Chief, Congressional and Legislative Affairs Office

DIGS70007 Special Assistant for National Park Service

Department of Agriculture (Sch. C, 213.3313)

DAGS00101 Deputy White House Liaison

DAGS00102 Confidential Assistant for Marketing and Regulatory Programs

DAGS00103 Director of Advance for Communications

DAGS00107 Director, Economic and Community Development

DAGS00108 Director of Speechwriting/Research for Communications

DAGS00109 Special Assistant for Food and Nutrition Service

DAGS00111 Special Assistant for Food and Nutrition Service

DAGS00112 Special Assistant for Natural Resources and Environment

DAGS00114 Confidential Assistant to the Secretary

DAGS00118 Special Assistant for Rural Housing Service

DAGS00120 Press Secretary for Communications

DAGS00122 Confidential Assistant for Farm and Foreign Agricultural Services

DAGS00123 Confidential Assistant for Natural Resources Conservation Service

DAGS00124 Chief of Staff for Foreign Agricultural Service

DAGS00125 Senior Advisor for Risk Management

DAGS00130 Special Assistant for Civil Rights

DAGS00132 Staff Assistant for Natural Resources and Environment

DAGS00133 Staff Assistant for Farm Service Agency

DAGS00137 Confidential Assistant for Rural Housing Service

DAGS00138 Confidential Assistant for Rural Housing Service

DAGS00140 Director of the Office of Faith Based and Neighborhood Outreach

DAGS00141 Confidential Assistant to the Chief Financial Officer

DAGS00142 Senior Advisor for Food Safety

DAGS00143 Special Assistant for Natural Resources Conservation Service

DAGS00144 Special Assistant for Natural Resources Conservation Service

DAGS00147 Special Assistant to the Administrator

DAGS00148 Confidential Assistant to the Secretary

DAGS00149 Staff Assistant for Risk Management

DAGS00150 Senior Advisor for Foreign Agricultural Service

DAGS00151 Confidential Assistant to the Administrator

DAGS00154 Senior Advisor for Research, Education and Economics

DAGS00155 Director, Intergovernmental Affairs for Congressional Relations

DAGS00156 Deputy Director, Intergovernmental Affairs for Congressional Relations

DAGS00158 Confidential Assistant for Risk Management

DAGS00159 Senior Advisor for Research, Education and Economics

DAGS00160 Press Assistant to the Director of Communications

DAGS00161 Press Secretary to the Director of Communications

DAGS00162 Staff Assistant to the Deputy Secretary

DAGS00163 Senior Advisor for Research, Education and Economics

DAGS00164 Confidential Assistant for the Farm Service Agency

DAGS00165 Deputy Director of Communications of Communications

DAGS00167 Confidential Assistant for Congressional Relations

DAGS00168 Senior Advisor, External Affairs for the Farm Service Agency

DAGS00170 Associate Regional Chief—East for Natural Resources Conservation Service

DAGS00171 Regional Associate Chief—West for Natural Resources Conservation Service

DAGS00172 Staff Assistant for Congressional Relations

DAGS00174 Confidential Assistant for Congressional Relations

DAGS00177 Senior Advisor for Animal and Plant Health Inspection Service

DAGS00178 Special Assistant for Farm and Foreign Agricultural Services

DAGS00180 Special Assistant for Farm Service Agency

DAGS00181 Special Assistant for Foreign Agricultural Service

DAGS00182 Special Assistant for Farm Service Agency

DAGS00186 White House Liaison to the Secretary

DAGS00191 Special Assistant for Congressional Relations

DAGS00301 Chief of Staff for Administration

DAGS00320 Special Assistant to the Deputy Chief of Staff

DAGS00795 Confidential Assistant to the Administrator

DAGS01004 Confidential Assistant for Rural Development

DAGS01006 Confidential Assistant for Rural Development

DAGS01021 Confidential Assistant for Rural Development

DAGS01023 Advance Lead to the Director of Communications

DAGS01024 Director of Scheduling and Advance of Communications

DAGS02000 Chief of Staff for Marketing and Regulatory Programs

DAGS50602 Director, Correspondence Management for Administration

DAGS50609 Deputy Director of Scheduling to the Director of Communications

DAGS60593 Special Assistant for Rural Development

DAGS60594 Special Assistant for Rural Housing Service

DAGS60595 Special Assistant for Rural Development

DAGS60596 Chief of Staff for Rural Housing Service

DAGS60597 Press Assistant of Communications

DAGS60598 Confidential Assistant for Rural Development

DAGS60599 Minister Counselor of Agriculture for Farm and Foreign Agricultural Services

DAGS60600 Chief of Staff for Rural Development

DAGS60603 Special Assistant for Marketing and Regulatory Programs

DAGS60604 Special Assistant to the Administrator

Department of Commerce (Sch. C, 213.3314)

DCGS00012 Confidential Assistant for Administration

DCGS00025 Associate Director of Legislative Affairs

DCGS00030 Special Assistant for Minority Business Development Agency

DCGS00072 Chief of Staff for Economic Development

DCGS00074 Director, Office of Strategic Partnerships of United States/Foreign Commercial Service

DCGS00100 Special Assistant to the Chief of Staff

DCGS00154 Advance Specialist to the Director of Advance

DCGS00161 Special Assistant for International Trade Administration

DCGS00162 Senior Advisor for Market Access and Compliance

DCGS00172 Associate Director for the Minority Business Development Agency

DCGS00181 Special Advisor for Communications and Information

DCGS00183 Special Advisor for Communications and Information

DCGS00189 Special Assistant to the Director, Executive Secretariat

DCGS00193 Senior Advisor for Industry and Security

DCGS00200 Legislative/Intergovernmental Specialist for Legislative and Intergovernmental Affairs

DCGS00202 Legislative Specialist for Legislative Affairs

DCGS00237 Executive Assistant to the Deputy Secretary

DCGS00262 Confidential Assistant for International Trade Administration

DCGS00268 Special Assistant to the Chief of Staff

DCGS00275 Special Assistant for Economic Development

DCGS00279 Chief of Staff for National Telecommunications and Information Administration

DCGS00289 Legislative Assistant for Legislative and Intergovernmental Affairs

DCGS00302 Director of External Affairs for National Oceanic and Atmospheric Administration

DCGS00317 Deputy Director of Scheduling for Scheduling and Advance

DCGS00321 Chief of Congressional Affairs for Communications

DCGS00327 Senior Advisor to the Secretary

DCGS00342 Special Assistant for Import Administration

DCGS00351 Confidential Assistant to the Deputy General Counsel

DCGS00359 New Media Specialist for National Telecommunications and Information Administration

DCGS00367 Special Assistant to the Director, Office of Legislative Affairs

DCGS00380 Confidential Assistant for Manufacturing and Services

DCGS00382 Confidential Assistant to the Director, Office of Policy and Strategic Planning

DCGS00386 Special Assistant to the Deputy Secretary

DCGS00387 Special Assistant for National Oceanic and Atmospheric Administration

DCGS00395 Confidential Assistant of Global Trade Programs

DCGS00409 Policy and Congressional Affairs Specialist for National Telecommunications and Information Administration

DCGS00418 Confidential Assistant for Economic Affairs

DCGS00427 Special Advisor for Industry and Security

DCGS00428 Deputy Director, Office of the White House Liaison

DCGS00431 Director of Scheduling for Scheduling and Advance

DCGS00433 Director, National Export Initiative for International Trade

DCGS00446 Director of Legislative Affairs for Industry and Security

DCGS00451 Senior Advisor for Manufacturing and Services

DCGS00460 Director of Intergovernmental Affairs for Legislative and Intergovernmental Affairs

DCGS00467 Senior Advisor and Director of Strategic Initiatives for Economic Development

DCGS00468 Deputy General Counsel for Strategic Initiatives

DCGS00470 Confidential Assistant to the Director, Executive Secretariat

DCGS00473 Special Assistant to the General Counsel

DCGS00476 Deputy Director, Executive Secretariat to the Director

DCGS00484 Director, Office of Faith Based and Neighborhood Partnerships

DCGS00485 Deputy Director for Faith Based and Neighborhood Partnerships

DCGS00492 Advance Specialist to the Director of Advance

DCGS00494 Press Secretary to the Director of Public Affairs

DCGS00495 Special Assistant to the Deputy Secretary

DCGS00500 Senior Advisor and Director of Public Affairs for International Trade

DCGS00502 Director of Advance for Scheduling and Advance

DCGS00520 Special Assistant for Market Access and Compliance

DCGS00553 Director of Outreach for Economic Development

DCGS00561 Special Advisor for Intellectual Property and Director of the United States Patent and Trademark Office

DCGS00564 Confidential Assistant to the Senior Advisor

DCGS00573 Special Assistant for the Advocacy Center

DCGS00574 Confidential Assistant for the Office of Business Liaison

DCGS00582 Confidential Assistant for Industry and Security

DCGS00590 Confidential Assistant to the Executive Secretariat

DCGS00593 Senior Advisor to the Chief of Staff

DCGS00598 Senior Director for Management and Performance for Administration

DCGS00599 Confidential Assistant of Communications

DCGS00620 Director of Legislative Affairs for International Trade

DCGS00629 Deputy Director for Public Affairs

DCGS00637 Special Assistant of United States/Foreign Commercial Service

DCGS00638 Confidential Assistant for National Telecommunications and Information Administration

DCGS00643 Special Advisor for Intellectual Property and Director of the United States Patent and Trademark Office

DCGS00652 Confidential Assistant (Public Affairs)

DCGS00653 Director of Advisory Committees for Manufacturing and Services

DCGS00662 Press Secretary for National Telecommunications and Information Administration

DCGS00667 Senior Policy Advisor for International Trade

DCGS00673 Special Assistant for Services to the Deputy Assistant Secretary for Services

DCGS00684 Director of Speechwriting of Public Affairs

DCGS00686 Director of Scheduling and Advance of Staff

DCGS00689 Chief, Communications of Commerce for Intellectual Property and Director of the United States Patent and Trademark Office

DCGS00692 Director of Public Affairs of Outreach for International Trade Administration

DCGS00693 Policy Advisor for National Oceanic and Atmospheric Administration

DCGS00696 Deputy Director of Legislative Affairs for International Trade Administration

DCGS60001 Deputy Director, Office of Business Liaison

DCGS60006 Director of Scheduling and Advance for International Trade Administration

DCGS60173 Senior Policy Advisor for Economic Development

DCGS60291 Deputy Director of Public Affairs

DCGS60312 Senior Advisor to the Under Secretary for International Trade Administration

DCGS60371 Policy Advisor for National Oceanic and Atmospheric Administration

DCGS60423 Senior Policy Advisor for Intellectual Property and Director of the United States Patent and Trademark Office

DCGS60440 Special Assistant for White House Affairs

DCGS60512 Senior Advisor for Industry and Security

DCGS60527 Executive Assistant to the Secretary

DCGS60596 Confidential Assistant for Public Affairs

DCGS00667 Senior Policy Advisor for International Trade

DCGS00673 Special Assistant to the Deputy Assistant Secretary for Services

DCGS00684 Director of Speechwriting of Public Affairs

DCGS00686 Director of Scheduling and Advance

DCGS00689 Chief Communications Officer for Intellectual Property and Director of the United States Patent and Trademark Office

DCGS00692 Director of Public Affairs of Outreach

DCGS00693 Policy Advisor for National Oceanic and Atmospheric Administration

DCGS00696 Deputy Director of Legislative Affairs for the International Trade Administration

DCGS60001 Deputy Director, Office of Business Liaison

DCGS60006 Director of Scheduling and Advance for International Trade Administration

DCGS60173 Senior Policy Advisor for Economic Development

DCGS60291 Deputy Director of Public Affairs

DCGS60312 Senior Advisor for International Trade Administration

DCGS60371 Policy Advisor for National Oceanic and Atmospheric Administration

DCGS60423 Senior Policy Advisor for Intellectual Property and Director of the United States Patent and Trademark Office

DCGS60440 Special Assistant for White House Initiatives

DCGS60512 Senior Advisor for Industry and Security

DCGS60527 Executive Assistant to the Secretary

DCGS60596 Confidential Assistant of Public Affairs

Department of Labor (Sch. C, 213.3315)

DLGS00024 Special Assistant for Disability Employment Policy

DLGS00108 Special Assistant of Scheduling and Advance

DLGS00166 Staff Assistant to the Chief Economist

DLGS09039 Speech Writer for Public Affairs

DLGS60007 Special Assistant of Public Engagement

DLGS60015 Legislative Assistant for Congressional and Intergovernmental Affairs

DLGS60017 Senior Legislative Officer for Congressional and Intergovernmental Affairs

DLGS60025 Senior Legislative Officer for Congressional and Intergovernmental Affairs

DLGS60041 Staff Assistant to the Deputy Chief of Staff

DLGS60042 Special Assistant for Public Affairs

DLGS60045 Staff Assistant to the Deputy Assistant Secretary

DLGS60066 Special Assistant for Policy

DLGS60074 Special Assistant to the Deputy Assistant Secretary

DLGS60076 Special Assistant for the Office of Federal Contract Compliance Programs

DLGS60089 Special Assistant of Labor

DLGS60093 Special Assistant of Scheduling and Advance

DLGS60107 Regional Representative for Congressional and Intergovernmental Affairs

DLGS60112 Regional Representative for Congressional and Intergovernmental Affairs

DLGS60114 Special Assistant for Communications and Public Affairs

DLGS60120 Senior Legislative Officer for Congressional and Intergovernmental Affairs

DLGS60130 Legislative Assistant for Congressional and Intergovernmental Affairs

DLGS60135 Special Assistant of Planning, Scheduling, and Advance

DLGS60137 Staff Assistant to the Deputy Assistant Secretary

DLGS60144 Special Assistant of Public Engagement

DLGS60145 Legislative Assistant for Congressional and Intergovernmental Affairs

DLGS60160 Senior Speechwriter for Public Affairs

DLGS60163 Chief of Staff for Occupational Safety and Health

DLGS60170 Special Assistant of Labor

DLGS60175 Senior Advisor for Policy

DLGS60180 Chief of Staff for Congressional and Intergovernmental Affairs

DLGS60182 Special Assistant of Labor

DLGS60190 Legislative Officer for Congressional and Intergovernmental Affairs

DLGS60194 Director of Scheduling and Advance of Labor

DLGS60197 Legislative Officer for Congressional and Intergovernmental Affairs

DLGS60199 Special Assistant for Public Affairs

DLGS60203 Special Assistant for Communications and Public Affairs

DLGS60209 Special Assistant for Veterans Employment and Training

DLGS60211 Special Assistant for Auto Communities and Workers

DLGS60212 Special Assistant for Public Engagement

DLGS60220 Director of Public Engagement to the Chief of Staff

DLGS60221 Speechwriter for Communications and Public Affairs

DLGS60222 Staff Assistant for International Affairs

DLGS60225 Special Assistant for Scheduling and Advance

DLGS60226 Legislative Officer for Congressional and Intergovernmental Affairs

DLGS60235 Legislative Assistant for Congressional and Intergovernmental Affairs

DLGS60239 Special Assistant for Auto Communities and Workers

DLGS60242 Policy Advisor for Policy

DLGS60252 Special Assistant for Auto Communities and Workers

DLGS60257 Senior Legislative Officer for Congressional and Intergovernmental Affairs

DLGS60267 Staff Assistant of Planning, Scheduling, and Advance

DLGS60270 Special Assistant for Employment and Training

DLGS60273 Special Assistant for Administration and Management

Department of Health and Human Services (Sch. C, 213.3316)

DHGS00267 Policy Coordinator for the Department

DHGS00493 Confidential Assistant for Political Personnel, Boards and Commissions

DHGS60010 Confidential Assistant (Faith-Based) for the Center for Faith Based and Community Initiatives

DHGS60015 Deputy Director for the Center for Faith Based and Community Initiatives

DHGS60017 Director of Scheduling and Advance

DHGS60027 Deputy Director for Scheduling and Advance

DHGS60028 Special Assistant to the Chief of Staff

DHGS60030 Confidential Assistant to the General Counsel

DHGS60036 Confidential Assistant for Intergovernmental Affairs

DHGS60046 Senior Speech Writer for Public Affairs

DHGS60059 Deputy Director for Regional Outreach for Intergovernmental Affairs

DHGS60063 Confidential Assistant of Public Affairs

DHGS60067 Special Assistant to the Chief of Staff

DHGS60075 Special Assistant for the Center for Faith Based and Community Initiatives

DHGS60081 Special Assistant for the Office of Global Health Affairs

DHGS60111 Confidential Assistant for Public Affairs

DHGS60111 Confidential Assistant for Public Affairs (Policy and Strategy)

DHGS60113 Press Secretary (Health Reform) for Public Affairs

DHGS60115 Surrogate Scheduler (Health Reform) for Public Affairs

DHGS60244 Regional Director, Seattle, Washington, Region X of Intergovernmental Affairs

DHGS60258 Deputy Director, Office of External Affairs

DHGS60294 Confidential Assistant for Children, Youth, and Families

DHGS60336 Confidential Assistant for Legislation (Human Services)

DHGS60337 Confidential Assistant (Health Reform) for Legislation (Planning and Budget)

DHGS60338 Senior Legislative Analyst (Health Reform) for Legislation (Planning and Budget)

DHGS60345 Director of Public Affairs for Children and Families

DHGS60364 Senior Advisor for Legislation

DHGS60399 Special Assistant for Children and Families

DHGS60436 Associate Commissioner for Children and Families

DHGS60464 Confidential Assistant (Office of Health Reform) for Planning and Evaluation

DHGS60465 Special Assistant (Office of Health Reform) for Planning and Evaluation

DHGS60468 Speechwriter for Planning and Evaluation

DHGS60470 Director of Policy Coverage (Office of Health Reform) for Planning and Evaluation

DHGS60471 Director of Public Health Policy (Office of Health Reform) for Planning and Evaluation

DHGS60511 Special Assistant for Early Childhood Development

DHGS60540 Confidential Assistant for Health

DHGS60570 Confidential Assistant for Advance

DHGS60571 Confidential Assistant of Scheduling and Advance

DHGS60580 Special Assistant to the National Health Information Technology Coordinator

DHGS60581 Special Assistant to the National Health Information Technology Coordinator

DHGS60626 Deputy Director, Office of External Affairs (Food and Drug Administration) for External Affairs

DHGS60630 Confidential Assistant for Health Resources and Services Administration

DHGS60661 Special Assistant for Health and Human Services

DHGS60674 Confidential Assistant on Aging to the Assistant Secretary (Commissioner for Aging)

DHGS60678 Special Assistant Centers for Medicare and Medicaid Services

DHGS60680 Special Assistant for Office of Legislation

Department of Education (Sch. C, 213.3317)

DBGS00004 Senior Advisor on Early Learning to the Chief of Staff

DBGS00032 Confidential Assistant for Strategy

DBGS00072 Special Assistant for Scheduling and Advance

DBGS00081 Special Assistant to the Chief of Staff

DBGS00109 Confidential Assistant for Civil Rights

DBGS00143 Special Assistant for College Access for Strategy

DBGS00184 Confidential Assistant to the Deputy Assistant Secretary

DBGS00192 Special Assistant for Civil Rights

DBGS00197 Confidential Assistant to the Special Assistant

DBGS00200 Special Assistant for Elementary and Secondary Education

DBGS00207 Special Assistant for Elementary and Secondary Education

DBGS00208 Special Assistant of Education

DBGS00218 Executive Director of the White House Initiative on Asian Americans and Pacific Islanders

DBGS00219 Special Assistant for the Office of Communications and Outreach

DBGS00222 Confidential Assistant for Race to the Top

DBGS00223 Special Assistant on Early Learning

DBGS00225 Confidential Assistant for Strategic Communications

DBGS00226 Confidential Assistant for Faith-Based and Community Initiatives Center

DBGS00229 Confidential Assistant for Race to the Top

DBGS00230 Confidential Assistant to the Chief of Staff

DBGS00246 Confidential Assistant for Vocational and Adult Education

DBGS00254 Deputy Director of the White House Initiative on Asian Americans and Pacific Islanders

DBGS00262 Confidential Assistant for Strategy

DBGS00265 Special Assistant for Strategy

DBGS00275 Confidential Assistant for Planning, Evaluation, and Policy Development

DBGS00276 Confidential Assistant for Strategy

DBGS00278 Special Assistant to the Deputy Assistant Secretary

DBGS00278 Special Assistant to the Deputy Assistant Secretary

DBGS00282 Confidential Assistant for Safe and Drug-Free Schools

DBGS00284 Confidential Assistant (Protocol) for Operations

DBGS00288 Confidential Assistant for Legislation and Congressional Affairs

DBGS00289 Assistant Deputy Secretary for Safe and Drug-Free Schools

DBGS00290 Special Assistant for Vocational and Adult Education

DBGS00291 Special Assistant for Educational Technology

DBGS00299 Special Assistant for Elementary and Secondary Education

DBGS00303 Director, White House Initiative on Educational Excellence for Hispanic Americans

DBGS00306 Deputy Assistant Secretary for Legislation and Congressional Affairs

DBGS00317 Confidential Assistant to the Chief of Staff

DBGS00318 Director for Special Initiatives for Innovation and Improvement

DBGS00320 Confidential Assistant of the White House Initiative on Asian Americans and Pacific Islanders

DBGS00322 Confidential Assistant for Safe and Drug-Free Schools

DBGS00326 Special Assistant for Elementary and Secondary Education

DBGS00328 Special Assistant to the Under Secretary

DBGS00335 Confidential Assistant to the Chief of Staff

DBGS00343 Confidential Assistant on Early Learning

DBGS00348 Confidential Assistant to the Under Secretary

DBGS00353 Special Assistant for Planning, Evaluation, and Policy Development

DBGS00355 Confidential Assistant to the Chief of Staff

DBGS00376 Director, Scheduling and Advance Staff

DBGS00396 Special Assistant for Strategy

DBGS00404 Special Assistant to the General Counsel

DBGS00406 Confidential Assistant for Vocational and Adult Education

DBGS00409 Deputy Assistant Secretary for Vocational and Adult Education

DBGS00414 Press Secretary for Strategic Communications for the Office of Communications and Outreach

DBGS00415 Confidential Assistant for Planning, Evaluation, and Policy Development

DBGS00428 Confidential Assistant to the Special Assistant

DBGS00433 Deputy Assistant Secretary for External Affairs and Outreach Services for Communication Services

DBGS00434 Press Secretary for Media Relations for the Office of Communications and Outreach

DBGS00435 Special Assistant for the Office of Communications and Outreach

DBGS00460 Deputy Assistant Secretary for the Office of Communications and Outreach

DBGS00462 Special Assistant for the Office of Communications and Outreach

DBGS00467 Director, Faith-Based and Community Initiatives Center

DBGS00468 Special Assistant to the Chief of Staff

DBGS00484 Deputy Assistant Secretary for the Office of Communications and Outreach

DBGS00498 Special Assistant to the Principal Deputy Assistant Secretary

DBGS00499 Director, Intergovernmental Affairs for the Office of Communications and Outreach

DBGS00507 Confidential Assistant to the General Counsel

DBGS00509 Director of the White House Initiative on Historically Black Colleges and Universities to the Chief of Staff

DBGS00511 Executive Assistant for Strategy

DBGS00523 Director, White House Liaison

DBGS00529 Special Assistant for the Faith-Based and Community Initiatives Center

DBGS00533 Special Assistant for the White House Liaison

DBGS00542 Special Assistant for Education

DBGS00543 Confidential Assistant for Legislation and Congressional Affairs

DBGS00549 Special Assistant to the Executive Administrator

DBGS00551 Confidential Assistant for Planning, Evaluation, and Policy Development

DBGS00560 Special Assistant for Planning, Evaluation, and Policy Development

DBGS00562 Confidential Assistant for Scheduling and Advance Staff

DBGS00563 Confidential Assistant for Elementary and Secondary Education

DBGS00568 Chief of Staff for Elementary and Secondary Education

DBGS00569 Special Assistant for Academic Improvement and Teacher Quality Programs

DBGS00570 Confidential Assistant for Intergovernmental Affairs

DBGS00572 Special Assistant for Planning, Evaluation, and Policy Development

DBGS00576 Special Assistant for Strategy

DBGS00580 Deputy Assistant Secretary for Elementary and Secondary Education

DBGS00584 Deputy White House Liaison to the Chief of Staff

DBGS00596 Associate Assistant Deputy Secretary for Innovation and Improvement

DBGS00609 Special Assistant to the Under Secretary

DBGS00611 Chief of Staff for Legislation and Congressional Affairs

DBGS00612 Special Assistant to the General Counsel

DBGS00618 Chief of Staff for Planning, Evaluation, and Policy Development

DBGS00626 Special Assistant to the Chief of Staff

DBGS00630 Special Assistant for Innovation and Improvement

DBGS00635 Special Assistant to the Chief of Staff

DBGS00638 Confidential Assistant for Intergovernmental Affairs

DBGS00641 Chief of Staff to the Deputy Secretary of Education

DBGS00649 Confidential Assistant for Scheduling and Advance Staff

DBGS00655 Special Assistant for Scheduling and Advance Staff

DBGS00657 Confidential Assistant for Education

DBGS00661 Confidential Assistant for the White House Liaison

DBGS00662 Special Assistant for External Affairs and Outreach Services

DBGS00663 Special Assistant for the Office of Communications and Outreach

DBGS00664 Chief of Staff to the Under Secretary

DBGS00666 Director, White House Initiative on Tribal Colleges and Universities

DBGS00670 Deputy Director, White House Initiative on the Educational Excellence for Hispanic Americans

DBGS00671 Chief of Staff for Innovation and Improvement

DBGS00673 Confidential Assistant for Innovation and Improvement

DBGS00675 Confidential Assistant to the General Counsel

DBGS00676 Confidential Assistant to the Executive Administrator

DBGS00679 Special Assistant for the Faith-Based and Community Initiatives Center

DBGS00680 Deputy Assistant Secretary for Planning, Evaluation, and Policy Development

DBGS00682 Deputy General Counsel

DBGS00683 Special Assistant of Education

DBGS00684 Special Assistant of Education

DBGS00685 Deputy Assistant Secretary for Postsecondary Education

DBGS00686 Deputy General Counsel for Accountability

DBGS00687 Senior Counsel for Civil Rights

DBGS60164 Confidential Assistant to the Deputy Under Secretary

Environmental Protection Agency (Sch. C, 213.3318)

EPGS04029 Special Assistant to the Chief of Staff

EPGS05005 Deputy Press Secretary for Public Affairs

EPGS05016 Deputy Press Secretary for Public Affairs

EPGS05017 Deputy Associate Administrator for Public Affairs

EPGS06019 Director, Office of the Executive Secretariat

EPGS06028 Deputy Associate Administrator for Congressional and Intergovernmental Relations

EPGS06032 Deputy to the Administrator

EPGS06036 Supervisory Public Affairs Specialist for Public Affairs

EPGS07020 Confidential Assistant to the Deputy Administrator

EPGS07023 Advance Specialist to the Deputy Chief of Staff (Operations)

EPGS08001 Assistant Press Secretary for Public Affairs

EPGS08007 Director of Operations to the Deputy Chief of Staff (Operations)

EPGS09008 White House Liaison to the Administrator

EPGS09010 Special Assistant for Public Affairs

EPGS09011 Advance Specialist for Air and Radiation

EPGS10002 Senior Speech Writer for Public Affairs

EPGS10003 Special Assistant for Public Affairs

EPGS10004 Deputy Assistant Administrator for Enforcement and Compliance Assurance

EPGS10005 Associate Assistant Administrator for Administration and Resources Management

EPGS10006 Program Advisor for Congressional and Intergovernmental Relations

EPGS60081 Director of Advance to the Chief of Staff

EPGS60799 Special Assistant to the Senior Climate Policy Counsel

Federal Communication Commission (Sch. C, 213.3323)

FCGS90146 Special Assistant for the Office of Strategic Planning and Policy Analysis

FCGS90147 Legislative Analyst for the Office of Legislative Affairs

FCGS90148 Legislative Analyst for the Office of Legislative Affairs

United States Tax Court (Sch. C, 213.3325)

JCGS60040 00301 Chambers Administrator to the Chief Judge

JCGS60041 Chambers Administrator to the Chief Judge

JCGS60042 Chambers Administrator to the Chief Judge

JCGS60043 Chambers Administrator to the Chief Judge

JCGS60044 Chambers Administrator to the Chief Judge

JCGS60045 Chambers Administrator to the Chief Judge

JCGS60047 Chambers Administrator to the Chief Judge

JCGS60048 Chambers Administrator to the Chief Judge

JCGS60049 Chambers Administrator to the Chief Judge

JCGS60050 Chambers Administrator to the Chief Judge

JCGS60051 Chambers Administrator to the Chief Judge

JCGS60052 Chambers Administrator to the Chief Judge

JCGS60053 Chambers Administrator to the Chief Judge

JCGS60054 Chambers Administrator to the Chief Judge

JCGS60055 Chambers Administrator to the Chief Judge

JCGS60057 Chambers Administrator to the Chief Judge

JCGS60058 Chambers Administrator to the Chief Judge

JCGS60059 Chambers Administrator to the Chief Judge

JCGS60060 Chambers Administrator to the Chief Judge

JCGS60061 Chambers Administrator to the Chief Judge

JCGS60062 Chambers Administrator to the Chief Judge

JCGS60063 Chambers Administrator to the Chief Judge

JCGS60064 Chambers Administrator to the Chief Judge

JCGS60065 Chambers Administrator to the Chief Judge

JCGS60066 Trial Clerk to the Chief Judge

JCGS60069 Trial Clerk to the Chief Judge

JCGS60070 Trial Clerk to the Chief Judge

JCGS60071 Trial Clerk to the Chief Judge

JCGS60075 Trial Clerk to the Chief Judge

JCGS60076 Trial Clerk to the Chief Judge

JCGS60078 Trial Clerk to the Chief Judge

JCGS60079 Trial Clerk to the Chief Judge

JCGS60080 Chambers Administrator to the Chief Judge

JCGS60081 Chambers Administrator to the Chief Judge

JCGS60083 Chambers Administrator to the Chief Judge

JCGS60084 Trial Clerk to the Chief Judge

JCGS60085 Trial Clerk to the Chief Judge

JCGS60086 Trial Clerk to the Chief Judge

Department of Veterans Affairs (Sch. C, 213.3327)

DVGS00082 Special Assistant for Public and Intergovernmental Affairs

DVGS60001 Special Assistant for Veterans Affairs

DVGS60002 Special Assistant for Public and Intergovernmental Affairs

DVGS60013 Special Assistant to the Secretary of Veterans Affairs

DVGS60017 Special Assistant for Public and Intergovernmental Affairs

DVGS60032 Director, Center for Faith Based Community Initiatives

DVGS60035 Special Assistant for Veterans Affairs

DVGS60038 Special Assistant for Veterans Affairs

DVGS60041 Special Assistant for Congressional and Legislative Affairs

DVGS60051 Legislative Assistant for Congressional and Legislative Affairs

DVGS60072 Special Assistant for Congressional and Legislative Affairs

DVGS60080 Special Assistant for Veterans Affairs

Securities and Exchange Commission (Sch. C, 213.3330)

SEOT11011 Director of Communications to the Chairman

SEOT11012 Chief of Staff to the Chairman

SEOT60007 Confidential Assistant to a Commissioner

SEOT60008 Secretary (Office Automation) to the Chief Accountant

SEOT60016 Secretary to the Director, Division of Enforcement

SEOT60052 Chief of Staff to the Chairman

SEOT60054 Secretary to the Director, Division of Trading and Markets

SEOT60062 Confidential Assistant to a Commissioner

SEOT60090 Confidential Assistant to the Chairman

SEOT60103 Legislative and Intergovernmental Affairs Specialist for Legislative Affairs

SEOT60999 Confidential Assistant to the General Counsel

SEOT65001 Executive Staff Assistant to the Chief of Staff

SEOT90006 Confidential Assistant to a Commissioner

SEOT90007 Confidential Assistant to the Chairman

Department of Energy (Sch. C, 213.3331)

DEGS00531 Senior Advisor for Energy Efficiency and Renewable Energy

DEGS00548 Staff Assistant to the General Counsel

DEGS00556 Congressional Affairs Officer for Congressional Affairs

DEGS00570 Senior Policy Advisor of Energy (Environmental Management)

DEGS00593 Congressional Affairs Specialist for Congressional Affairs

DEGS00616 Special Assistant for Policy and International Affairs

DEGS00617 Special Assistant for the Office of Scheduling and Advance

DEGS00628 Assistant Press Secretary for Public Affairs

DEGS00662 Deputy Assistant Secretary for Congressional and Intergovernmental Affairs

DEGS00669 Senior Policy Advisor for Science

DEGS00702 Advisor to the Secretary for Department of Energy

DEGS00709 Special Assistant and Scheduler for Office of Public Affairs

DEGS00710 Deputy Press Secretary for Office of Public Affairs

DEGS00711 Deputy Director of Public Affairs for Office of Public Affairs

DEGS00712 Press Secretary for Office of Public Affairs

DEGS00715 White House Liaison for Department of Energy

DEGS00716 Deputy Chief of Staff

DEGS00719 Press Assistant for Office of Public Affairs

DEGS00721 Chief Speechwriter for Office of Public Affairs

DEGS00724 Senior Advisor to the Chief of Staff

DEGS00725 Special Assistant to the Chief of Staff

DEGS00726 New Media Specialist for Office of Public Affairs

DEGS00728 Special Assistant for Office of the American Recovery and Reinvestment Act

DEGS00729 Advisor for Policy and Communications for Office of Public Affairs

DEGS00730 Director, Public Affairs for Nuclear Security/Administrator

DEGS00734 Special Assistant to the Chief of Staff

DEGS00735 Special Assistant for Office of the American Recovery and Reinvestment Act

DEGS00739 Deputy Assistant Secretary for Intergovernmental and External Affairs

DEGS00740 Special Assistant for Policy and International Affairs

DEGS00741 Special Assistant for Office of the American Recovery and Reinvestment Act

DEGS00742 Senior Policy Advisor to the Chief of Staff

DEGS00743 Small Business Loan Guarantee Program Advisor for Office of the American Recovery and Reinvestment Act

DEGS00744 Deputy Director of Public Affairs

DEGS00745 Special Assistant to the Chief of Staff

DEGS00749 Special Assistant to the Chief of Staff

DEGS00750 Special Assistant to the Chief of Staff

DEGS00751 New Media Specialist to the Chief of Staff

DEGS00753 Special Assistant for Science

DEGS00754 Public Affairs Coordinator

DEGS00756 Senior Counsel to the General Counsel

DEGS00757 Senior Advisor to the Under Secretary

DEGS00759 Special Assistant for Policy and International Affairs

DEGS00762 Special Assistant to the Chief of Staff

DEGS00765 Special Assistant (Energy Efficiency and Renewable Energy)

DEGS00766 Special Assistant (Energy Efficiency and Renewable Energy)

DEGS00767 Special Assistant for the Office of Science

DEGS00769 Special Assistant to the Senior Advisor

DEGS00771 Speechwriter for the Office of Public Affairs

DEGS00773 Special Assistant (Fossil Energy)

DEGS00774 Senior Advisor (Fossil Energy)

DEGS00776 Senior Advisor to the Principal Deputy Assistant Secretary

DEGS00777 Special Assistant to the Deputy Chief of Staff

DEGS00780 Director, Office of Congressional Affairs to the Director of Congressional, Intergovernmental, and Public Affairs

DEGS00781 Legislative Affairs Specialist for Congressional and Intergovernmental Affairs

DEGS00782 Deputy White House Liaison

DEGS00783 Special Assistant for Scheduling and Advance

DEGS00785 Staff Assistant to the General Counsel

DEGS00786 Special Assistant for Advanced Research Projects Agency

DEGS00790 Special Assistant to the Chief of Staff

DEGS00791 Scheduler to the Senior Advisor

DEGS00792 Trip Coordinator to the Senior Advisor

DEGS00793 Lead Advance Representative to the Senior Advisor

DEGS00795 Senior Legal Advisor to the General Counsel

DEGS00797 Legal Advisor to the General Counsel

DEGS00799 Economic Recovery Advisor for Office of the American Recovery and Reinvestment Act

DEGS00803 Special Assistant for Energy

DEGS00805 Special Assistant to the Senior Advisor

DEGS00806 Special Assistant to the Senior Advisor

DEGS00808 Senior Advisor and Director of New Media for Office of Public Affairs

DEGS00812 Congressional Affairs Specialist for Office of Congressional Affairs

DEGS00813 Senior Advisor for Loan Guarantee Program Office

DEGS00814 Director, Office of Scheduling and Advance

DEGS00817 Special Assistant to the Chief of Staff

Federal Energy Regulatory Commission (Sch. C, 213.331)

DRGS00028 Director, Congressional and Intergovernmental Affairs Division

DRGS10011 Confidential Assistant Federal Energy Regulatory Commission

DRGS60007 Confidential Assistant Federal Energy Regulatory Commission

DRGS60009 Confidential Assistant Federal Energy Regulatory Commission

Small Business Administration (Sch. C, 213.332)

SBGS00002 Chief Information Officer

SBGS00540 Assistant Administrator for Faith-Based and Community Initiatives

SBGS00557 Deputy Associate Administrator for Communications and Public Liaison

SBGS00594 Press Secretary for Communications and Public Liaison

SBGS00601 Associate Administrator for Field Operations

SBGS00622 Assistant Administrator for Native American Affairs for Entrepreneurial Development

SBGS00634 Regional Administrator (Region I) for Field Operations

SBGS00640 Regional Administrator (Region II) for Field Operations

SBGS00653 Deputy General Counsel

SBGS00662 Deputy Assistant Administrator for Congressional and Legislative Affairs

SBGS00667 Speechwriter for Communications and Public Liaison

SBGS00668 Senior Advisor for Field Operations

SBGS00674 Staff Assistant for the Office of Field Operations

SBGS00675 Special Assistant of Scheduling

SBGS00680 Assistant Administrator for the Office of Communications and Public Liaison

SBGS00683 Special Assistant for Congressional and Legislative Affairs

SBGS00685 Special Assistant to the Chief of Staff

SBGS00689 Press Assistant for the Office of Communications and Public Liaison

SBGS00690 Deputy Assistant Administrator for Congressional and Legislative Affairs

SBGS00691 Director of Hubzone for Government Contracting and Business Development

SBGS00694 Congressional Legislative Affairs Assistant for Congressional and Legislative Affairs

SBGS00696 Senior Advisor for Policy and Government Contracting for Government Contracting and Business Development

SBGS00697 Special Assistant to the Chief Operating Officer

SBGS00698 Senior Advisor for Outreach and Operations

SBGS00699 Deputy White House Liaison to the White House Liaison and Deputy Chief of Staff

SBGS00701 Confidential Assistant to the Administrator

SBGS00702 Policy Associate to the White House Liaison and Deputy Chief of Staff

SBGS00703 White House Liaison to the Chief of Staff

SBGS00705 Policy Associate for Policy and Strategic Planning

SBGS60170 Regional Administrator, Region VIII, Denver Colorado for Field Operations

SBGS60173 Regional Administrator, Region VI, Dallas, Texas for Field Operations

SBGS60174 Regional Administrator for Field Operations

SBGS60189 Regional Administrator, Region X, Seattle Washington for Field Operations

Federal Deposit Insurance Corporation (Sch. C, 213.333)

FDOT00010 Chief of Staff of the Board of Directors

FDOT00012 Director for Public Affairs of the Board of Directors

Federal Trade Commission (Sch. C, 213.3334)

FTGS60001 Director, Office of Public Affairs to the Chairman

FTGS60027 Confidential Assistant to the Chairman

General Services Administration (Sch. C, 213.337)

GSGS00087 Special Assistant to the Regional Administrator

GSGS00090 Special Assistant to the White House Liaison

GSGS00132 Special Assistant to the Regional Administrator

GSGS01387 Special Assistant to the Chief of Staff

GSGS01422 Regional Administrator

GSGS01424 Regional Administrator

GSGS01425 Regional Administrator

GSGS01426 Regional Administrator

GSGS01428 Regional Administrator

GSGS01430 Special Assistant to the Regional Administrator

GSGS01431 Special Assistant to the Regional Administrator

GSGS01433 Public Affairs Specialist for Communications and Marketing

GSGS01434 Federal Interagency Councils Program Manager for Government-wide Policy

GSGS01435 Special Assistant to the Regional Administrator

GSGS01437 Special Assistant for Small Business Utilization

GSGS01438 Special Assistant to the Deputy Administrator

GSGS01440 Sustainability Specialist for Government-wide Policy

GSGS01441 Special Assistant to the Regional Administrator

GSGS01443 Congressional Relations Specialist for Congressional and Intergovernmental Affairs

GSGS60069 Press Secretary for Communications and Marketing

GSGS60103 Special Assistant to the Chief of Staff

GSGS60126 Deputy Associate Administrator for Communications and Marketing for Citizen Services and Communications

GSGS60127 Associate Administrator for Small Business Utilization

United States International Trade Commission (Sch. C, 213.3339)

TCGS00010 Staff Assistant (Legal) to a Commissioner

TCGS00012 Staff Assistant (Legal) to a Commissioner

TCGS00013 Staff Assistant (Legal) to the Chairman

TCGS00025 Confidential Assistant to a Commissioner

TCGS00031 Executive Assistant to a Commissioner

TCGS00033 Staff Assistant to a Commissioner

TCGS00037 Staff Assistant (Legal) to the Chairman

TCGS60005 Staff Assistant (Legal) to a Commissioner

TCGS60006 Staff Assistant (Legal) to a Commissioner

TCGS60007 Staff Assistant (Economics) to a Commissioner

TCGS60015 Executive Assistant to the Vice Chairman

TCGS60018 Staff Assistant (Legal) to a Commissioner

TCGS60022 Staff Assistant (Legal) to a Commissioner

TCGS60025 Staff Assistant (Legal) to a Commissioner

TCGS60030 Confidential Assistant to a Commissioner

TCGS60036 Staff Assistant (Economist) to the Chairman

TCGS60100 Staff Assistant (Legal) to a Commissioner

TCGS60101 Executive Assistant to a Commissioner

Export-Import Bank (Sch. C, 213.3342)

EBGS04544 Executive Assistant to the President and Chairman

EBGS42989 Senior Advisor to the President and Chairman

EBGS45409 Special Assistant to the President and Chairman

EBSL10001 Deputy Chief of Staff to the President and Chairman

EBSL42019 Senior Vice President for Congressional Affairs

EBSL45019 Senior Vice President and General Counsel to the President and Chairman

EBSL47479 Executive Vice President and Chief Operating Officer to the President and Chairman

EBSL94047 Senior Vice President for Communications

Farm Credit Administration (Sch. C, 213.3343)

FLOT00027 Director to the Chairman, Farm Credit Administration Board

FLOT00030 Associate Director of Congressional Affairs for Farm Credit Administration Board

Occupational Safety and Health Review Commission (Sch. C, 213.3344)

SHGS00016 Confidential Assistant to the Commission Member (Chairman)

SHGS00017 Confidential Assistant to the Commission Member

SHGS60008 Counsel to A Commissioner

SHGS60009 Confidential Assistant to the Commission Member

SHGS60012 Counsel to the Commission Member

National Aeronautics and Space Administration (Sch. C, 213.3348)

NNGS01121 Special Assistant to the Chief of Staff

NNGS01122 Special Assistant to the Chief of Staff

NNGS03296 Special Assistant (Scheduling) to the Chief of Staff

Federal Mine Safety and Health Review Commission (Sch. C, 213.3351)

FRGS60024 Confidential Assistant to the Chairman

FRGS90504 Attorney Advisor (General) to a Member

Social Security Administration (Sch. C, 213.3355)

SZGS00019 Senior Advisor for Legislation and Congressional Affairs

Commission on Civil Rights (Sch. C, 213.3356)

CCGS60010 Special Assistant to a Commissioner

CCGS60011 Special Assistant to a Commissioner

CCGS60012 Special Assistant to a Commissioner

CCGS60013 Special Assistant to a Commissioner

CCGS60016 Special Assistant to a Commissioner

CCGS60020 Special Assistant to a Commissioner

CCGS60029 Special Assistant to the Vice Chairman

CCGS60031 General Counsel to the Staff Director

National Credit Union Administration (Sch. C, 213.3357)

CUOT01373 Staff Assistant to the Chairman

CUOT01379 Chief of Staff to the Chairman

CUOT01382 Senior Advisor for Communications to the Chairman

CUOT01389 Senior Policy Advisor to the Vice Chair

CUOT01390 Senior Policy Advisor to a Board Member

CUOT60009 Staff Assistant to the Chairman, United Nations Educational, Scientific and Cultural Organization Board

CUOT91402 Staff Assistant to the Vice Chair

Consumer Product Safety Commission (Sch. C, 213.3360)

PSGS00023 Special Assistant (Legal) for Consumer Product Safety Commission

PSGS00055 Chief of Staff for Consumer Product Safety Commission

PSGS00075 Special Assistant (Legal) to a Commissioner

PSGS07318 Special Assistant to a Commissioner

PSGS60001 Special Assistant (Legal) to a Commissioner

PSGS60003 Special Assistant (Legal) to a Commissioner

PSGS60007 Director, Office of Congressional Relations for Consumer Product Safety Commission

PSGS60008 Staff Assistant for Consumer Product Safety Commission

PSGS60050 Executive Assistant to a Commissioner

PSGS60061 Executive Assistant to a Commissioner

PSGS60062 Special Assistant (Legal) to a Commissioner

PSGS60063 Special Assistant (Legal) to a Commissioner

PSGS60066 Supervisory Public Affairs Specialist to the Executive Director

PSGS72150 Staff Assistant to a Commissioner

Federal Maritime Commission (Sch. C, 213.3367)

MCGS60003 Counsel to a Member

MCGS60042 Counsel to a Member

Appalachian Regional Commission (Sch. C, 213.3376)

APGS00005 Confidential Policy Advisor to the Federal Co-Chairman

Commodity Futures Trading Commission (Sch. C, 213.3379)

CTOT00014 Administrative Assistant to a Commissioner

CTOT00056 Special Assistant to a Commissioner

CTOT00058 Special Assistant to a Commissioner

CTOT00086 Special Assistant to a Commissioner

CTOT00089 Administrative Assistant to a Commissioner

CTOT00098 Director of Legislative Affairs to the Chairperson

CTOT00099 Director of Public Affairs to the Chairperson

National Endowment for the Arts (Sch. C, 213.3382)

NAGS00052 Executive Assistant to the Chief of Staff

NAGS00063 Deputy Congressional Liaison to the Chief of Staff

National Endowment for the Humanities (Sch. C, 213.3382)

NHGS09001 Senior Advisor to the Chairman

NHGS60065 Special Assistant to the Chairman

NHGS60066 Executive Assistant to the Chairman

NHGS60075 Director of Communications to the Deputy Chairman

Department of Housing and Urban Development (Sch. C, 213.3384)

DUGS00037 Director of Scheduling for the Office of Executive Scheduling and Operations

DUGS00047 Special Assistant for Housing and Urban Development

DUGS00053 Staff Assistant to the Chief of Staff

DUGS00249 Director of Advance for the Office of Executive Scheduling and Operations

DUGS06632 General Deputy Assistant Secretary for Public Affairs

DUGS60036 Special Assistant to the Senior Advisor

DUGS60068 Senior Advisor for Fair Housing and Equal Opportunity

DUGS60110 Staff Assistant for Housing, Federal Housing Commissioner

DUGS60114 Special Assistant for Housing, Federal Housing Commissioner

DUGS60121 Media Outreach Specialist for Public Affairs

DUGS60171 Congressional Relations Specialist to the Chief of Staff

DUGS60173 Staff Assistant for Housing and Urban Development

DUGS60174 Congressional Relations Officer for Congressional Relations

DUGS60184 Deputy Assistant Secretary for Congressional and Intergovernmental Relations

DUGS60185 General Deputy Assistant Secretary for Congressional and Intergovernmental Relations

DUGS60186 Staff Assistant to the Chief of Staff

DUGS60193 Media Specialist to the Chief of Staff

DUGS60199 Staff Assistant for Public Affairs

DUGS60211 Advance Coordinator for the Office of Executive Scheduling and Operations

DUGS60240 Speechwriter for Public Affairs

DUGS60249 Congressional Relations Specialist for Congressional and Intergovernmental Relations

DUGS60280 Special Assistant to the White House Liaison

DUGS60319 Regional Director for Operations and Management

DUGS60340 Special Assistant to the Chief of Staff

DUGS60352 Regional Director for Field Policy and Management

DUGS60363 Deputy Assistant Secretary for Policy Development and Research

DUGS60379 Director, Office of Executive Scheduling and Operations to the Chief of Staff

DUGS60410 Special Assistant to the General Counsel

DUGS60415 Senior Speechwriter for Public Affairs

DUGS60417 Special Assistant to the White House Liaison

DUGS60436 Staff Assistant to the Chief of Staff

DUGS60470 Special Assistant to the General Counsel

DUGS60502 Special Policy Advisor for Public and Indian Housing

DUGS60505 Deputy Assistant Secretary for Intergovernmental Relations to the Assistant Secretary for Congressional and Intergovernmental Relations

DUGS60512 Special Assistant to the Chief of Staff

DUGS60517 Regional Director for Operations and Management

DUGS60518 Special Assistant for Housing and Urban Development

DUGS60519 Special Assistant for Public and Indian Housing

DUGS60534 Deputy Director to the Senior Advisor

DUGS60549 Senior Advisor to the Chief of Staff

DUGS60571 Deputy Assistant Secretary for International and Philanthropic Affairs for Policy Development and Research

DUGS60581 Legislative Specialist for Congressional and Intergovernmental Relations

DUGS60597 Deputy Chief of Staff for Policy and Programs

DUGS60603 Staff Assistant for Policy Development Research

National Mediation Board (Sch. C, 213.3389)

NMGS60053 Confidential Assistant to a Board Member

NMGS60054 Confidential Assistant to the Chairman

NMGS60056 Confidential Assistant to a Board Member

Office of Personnel Management (Sch. C, 213.3391)

PMGS30553 Executive Director, CHCO Council

PMGS31230 Deputy Chief of Staff

PMGS31255 Deputy Chief of Staff of External Affairs

PMGS31263 Senior Advisor to the Director

PMGS31265 Counselor to the Director of External Affairs

PMGS31267 Senior Advisor to the Director

PMGS31315 Senior Policy Counsel to the General Counsel

PMGS31316 Special Assistant to the Director

PMGS31318 Speech Writer for the Office of Communications and Public Liaison

PMGS31334 Deputy Director for the Office of Congressional Relations

PMGS31346 Public Affairs Specialist for the Office of Communications and Public Liaison

PMGS31347 Public and Congressional Affairs for the Office of Congressional Relations

PMGS31348 Congressional Relations for the Office of Congressional Relations

PMGS31350 Public Affairs Specialist for the Office of Communications and Public Liaison

PMGS31401 Special Assistant to the Deputy Chief of Staff

PMGS31418 Constituent Services Representative for the Office of Congressional Relations

PMGS31442 Deputy Director for the Office of Communications and Public Liaison

PMGS31486 Attorney-Advisor to the General Counsel

Federal Labor Relations Authority (Sch. C, 213.3392)

FAGS00001 Management Assistant to the Chairman

FAGS60022 Executive Assistant to the Chairman

Department of Transportation (Sch. C, 213.3394)

DTGS60054 Associate Director for Governmental Affairs

DTGS60127 Deputy Assistant Secretary for Budget and Programs and Chief Financial Officer

DTGS60129 Counselor to the General Counsel

DTGS60139 Special Assistant to the Deputy Secretary

DTGS60173 Director of Congressional Affairs

DTGS60199 Special Assistant to the Administrator

DTGS60237 Press Secretary of Public Affairs

DTGS60239 Director, Office of Congressional and Public Affairs

DTGS60257 Deputy Director of Public Affairs

DTGS60277 Associate Administrator for Communications and Legislative Affairs

DTGS60279 Director of Speechwriting for Public Affairs

DTGS60291 Associate Director for Governmental Affairs

DTGS60295 Special Assistant to the Under Secretary of Transportation for Policy

DTGS60301 Associate Director for Governmental Affairs

DTGS60311 Special Assistant for Scheduling and Advance

DTGS60313 Director, Office of Governmental Affairs, Policy and Strategic Planning

DTGS60317 Deputy Assistant Administrator for Government and Industry Affairs

DTGS60324 Director of Scheduling and Advance to the Chief of Staff

DTGS60326 Special Assistant to the Administrator

DTGS60337 Director of Communications to the Administrator

DTGS60341 Associate Director for Governmental Affairs

DTGS60342 Special Assistant for Scheduling and Advance

DTGS60358 Special Assistant for Scheduling and Advance

DTGS60360 Scheduler to the Director of Scheduling and Advance

DTGS60369 Deputy Assistant Secretary for Governmental Affairs

DTGS60371 Deputy Assistant Secretary for Governmental Affairs

DTGS60372 Deputy Assistant Secretary for Governmental Affairs

DTGS60373 Associate Director of Governmental Affairs

DTGS60375 White House Liaison to the Chief of Staff

DTGS60377 Director, Office of Governmental, International and Public Affairs

DTGS60400 Associate Administrator for Policy and Governmental Affairs

DTGS60451 Director of Communications to the Administrator

DTGS60460 Director of Public Affairs

DTGS60476 Deputy Press Secretary of Public Affairs

National Transportation Safety Board (Sch. C, 213.3396)

TBGS11504 Special Assistant to the Chairman

TBGS71538 Special Assistant to a Member

TBGS91567 Special Assistant to the Vice Chairman

Federal Housing Finance Board (Sch. C, 213.3397)

FBOT00004 Counsel to the Chairman

FBOT00005 Staff Assistant to the Chairman

FBOT00010 Special Assistant to the Board Director

FBOT60009 Special Assistant to the Board Director

Authority: 5 U.S.C. 3301 and 3302; E.O.10577, 3 CFR 1954-1958 Comp., p.218.

John Berry,
Director, Office of Personnel Management.

[FR Doc. 2010-29113 Filed 11-17-10; 8:45 am]

BILLING CODE 6325-39-P